DEPARTMENT OF TRANSPORTATION

Federal Aviation Administration

14 CFR Parts 61, 63, 65, and 141

[Docket No. FAA-2023-0825; Notice No. 23-06]

RIN 2120-AL25

Removal of Expiration Date on a Flight Instructor Certificate; Additional Qualification Requirements To Train Initial Flight Instructor Applicants; and Other Provisions

AGENCY: Federal Aviation Administration (FAA), Department of Transportation (DOT).

ACTION: Notice of proposed rulemaking (NPRM).

SUMMARY: The FAA proposes to amend the flight instructor certificate renewal requirements by changing the existing renewal requirements to recent experience requirements and adding a new method for persons to establish recent flight instructor experience. This rulemaking would also allow a flight instructor whose recent experience has lapsed by no more than three calendar months to reinstate flight instructor privileges by taking an approved flight instructor refresher course rather than completing a flight instructor certification practical test. Additionally, the FAA proposes to amend the qualification requirements for flight instructors seeking to provide training to initial flight instructor applicants by adding two new methods under which a flight instructor may become qualified to provide this training. Lastly, the FAA proposes to relocate and codify the requirements of a Special Federal Aviation Regulation into the regulations.

DATES: Send comments on or before June 22, 2023.

ADDRESSES: Send comments identified by docket number FAA-2023-0825 using any of the following methods:

• Federal eRulemaking Portal: Go to https://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at https://www.dot.gov/privacy.

Docket: Background documents or comments received may be read at https://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Allan G. Kash, Training and Certification Group, Flight Standards Service, Federal Aviation Administration, 800 Independence Avenue SW, Washington, DC 20591; telephone (202) 267-1100; email allan.g.kash@faa.gov.

SUPPLEMENTARY INFORMATION:

Table of Contents

I. Executive Summary

II. Authority for This Rulemaking

III. Discussion of the Proposal

A. Expiration, Renewal, and Reinstatement Requirements for Flight Instructor Certificates

B. Conforming Amendments (§§ 61.2, 61.56, 61.425, 61.427, and SFAR 100-2)

C. Instructor Qualifications for Training Initial Flight Instructor Applicants

IV. Regulatory Notices and Analyses

A. Regulatory Evaluation

B. Regulatory Flexibility Determination

C. International Trade Impact Assessment

D. Unfunded Mandates Assessment

E. Paperwork Reduction Act

F. International Compatibility

G. Environmental Analysis

V. Executive Order Determinations

A. Executive Order 13132, Federalism

B. Executive Order 13211, Regulations That Significantly Affect Energy Supply, Distribution, or Use

C. Executive Order 13609, International Cooperation

VI. How To Obtain Additional Information

A. Comments Invited

B. Availability of Rulemaking Documents

C. Small Business Regulatory Enforcement Fairness Act

List of Abbreviations and Acronyms Frequently Used In This Document

Advanced Aviation Training Device (AATD)

Aviation Training Device (ATD)

Basic Aviation Training Device (BATD)

FAA's Pilot Proficiency Program (WINGS)

Flight Instructor Refresher Course (FIRC)

Flight Instructor Enhanced Qualification Training Program (FIEQTP)

Flight Simulator Training Device (FSTD)

Flight Training Device (FTD)

Full Flight Simulator (FFS)

I. Executive Summary

This rulemaking would amend part 61 of title 14 of the Code of Federal Regulations (14 CFR) by revising the expiration, renewal, and reinstatement requirements for flight instructor certificates and revising the qualifications for flight instructors seeking to train initial flight instructor applicants.

As explained in section III.A. of the preamble, the FAA proposes to remove the expiration date on flight instructor certificates to align with other airmen certificates. As part of this rulemaking, the flight instructor certificate renewal requirements would become recent experience requirements. The FAA proposes to require flight instructors to establish recent experience at least once every 24 calendar months. The FAA also proposes to add a new method for flight instructors to establish recent experience by serving as a flight instructor in an FAA-sponsored pilot proficiency program. Additionally, while the FAA is not removing any existing allowances to renew a flight instructor certificate, as is discussed in section III.A., the FAA proposes to amend the reinstatement requirements of § 61.199 by allowing flight instructors to reinstate their flight instructor privileges by taking an approved flight instructor refresher course (FIRC), provided the flight instructor's recent experience has not lapsed for more than three calendar months.

As explained in section III.B. of the preamble, the FAA is also proposing to revise the qualifications for instructors seeking to train initial flight instructor applicants. More specifically, the FAA proposes to add two new qualification methods. Currently, to train initial flight instructor applicants,¹ a flight instructor under part 61 must meet the eligibility requirements of § 61.183, hold the appropriate flight instructor certificate and rating, have held a flight instructor certificate for at least 24 calendar months, and have given at least 200 hours of flight training as a flight instructor if training in preparation for an airplane, rotorcraft, or powered-lift rating.² In addition to retaining this current requirement, the FAA proposes two new options for flight instructors to qualify to provide flight training to initial flight instructor applicants. Under the first proposed method, a flight instructor would be required to have trained and endorsed at least five applicants for a practical test for a pilot certificate or rating, and at least 80 percent of those applicants passed that test on their first attempt. Under the second proposed method, a flight instructor would be required to have graduated from an FAA-approved flight instructor enhanced qualification training program (FIEQTP) and have given at least 200 hours of flight training as a flight instructor if training in preparation for an airplane, rotorcraft, or powered-lift rating (or 80 hours in the case of glider instruction). The FAA proposes to make these three qualification methods available to all flight instructors, including those serving under part 61 and those serving under an FAA-approved course under part 141 or 142.

¹ Section 61.195(h) prescribes the requisite qualifications for a flight instructor training first-time flight instructor applicants.

² For training in preparation for a glider rating, the flight instructor must have given at least 80 hours of flight training as a flight instructor. 14 CFR 61.195(h)(2)(v).

Finally, the FAA proposes to relocate and codify Special Federal Aviation Regulation (SFAR) 100-2, Relief for U.S. Military and Civilian Personnel who are Assigned Outside the United States in Support of U.S. Armed Forces Operations, into parts 61, 63, and 65, respectively. The proposed codification of SFAR 100-2 is further discussed in section III.B.2.

II. Authority for This Rulemaking

The FAA's authority to issue rules on aviation safety is found in Title 49 of the United States Code (49 U.S.C.). Subtitle I, section 106, describes the authority of the FAA Administrator. Subtitle VII, Aviation Programs, describes in more detail the scope of the agency's authority.

The FAA is issuing this proposed rulemaking under the authority described in 49 U.S.C. 106(f), which establishes the authority of the Administrator to promulgate regulations and rules; 49 U.S.C. 44701(a)(5), which requires the Administrator to promote safe flight of civil aircraft in air commerce by prescribing regulations and setting minimum standards for other practices, methods, and procedures necessary for safety in air commerce and national security; and 49 U.S.C. 44703(a), which requires the Administrator to prescribe regulations for the issuance of airman certificates when the Administrator finds, after investigation, that an individual is qualified for and physically able to perform the duties related to the position authorized by the certificate. This proposed rulemaking is within the scope of that authority.

III. Discussion of the Proposal

A. Expiration, Renewal, and Reinstatement Requirements for Flight Instructor Certificates

Section 61.19 prescribes the duration of pilot and instructor certificates and privileges. Currently, under § 61.19(d), a flight instructor certificate expires 24 calendar months from the month in which it was issued, renewed, or reinstated, as appropriate.³ The FAA's current practice is to print the expiration date on the flight instructor certificate. To continue exercising flight instructor privileges, a person must renew their flight instructor certificate prior to its expiration date by passing a practical test or by submitting a completed and signed application with the FAA and satisfactorily completing one of the renewal requirements specified in § 61.197(a)(2). This renewal process occurs at least once every 24 calendar months from the date of issuance on the person's flight instructor certificate; however, flight instructors may renew their flight instructor certificates more frequently. If a person allows their flight instructor certificate to expire, the only method to reinstate that certificate is by passing a flight instructor practical test in accordance with § 61.199.

³ Section 61.19(d) contains an exception to § 61.197(b), which prescribes the requirements for determining the expiration month of a renewed flight instructor certificate.

Industry advocates have expressed support for removing the expiration date on a flight instructor certificate and amending the renewal and reinstatement requirements. These industry advocates asserted that requiring an expiration date on a flight instructor certificate is overly burdensome, costly, and provides no safety benefits. Specifically, on September 14, 1999, and again on March 13, 2000, the Aircraft Owners and Pilots Association (AOPA) petitioned the FAA to remove the expiration on a flight instructor certificate. AOPA expressed concern that many current and former flight instructors perceive the existing FAA regulatory requirement for certificate expiration and reinstatement as a significant disincentive to renewing an expired certificated flight instructor certificate. AOPA's petition also asserted that flight instructor certificate expirations have substantially reduced the number of otherwise qualified and experienced part-time flight instructors.

AOPA asked the FAA to eliminate the expiration date on a flight instructor certificate and add a three-month grace period to allow a flight instructor to reestablish recent experience by completing a FIRC within those three months. AOPA asserted that these changes would directly benefit the public, encourage many flight instructors with expired certificates to rejoin the instructional community, and eliminate the need for over 9,700 salary hours of unnecessary administrative processing at the Airman Certification Branch of the Civil Aviation Registry Division. AOPA also maintained that these changes would not adversely affect the quality of flight training or flight safety.

On February 7, 2007, the FAA published a notice of proposed rulemaking (NPRM) in the Federal Register proposing to amend §§ 61.19(d), 61.197(a), and 61.199 to allow the issuance of flight instructor certificates without expiration dates.⁴ However, in the final rule published on August 21, 2009,⁵ the FAA decided to withdraw this proposal and continue issuing flight instructor certificates with expiration dates after determining that revising its application procedures could achieve equivalent results. The new application process, which allowed a FIRC provider to submit applications directly to the FAA's Airman Certification Branch, may have incentivized some flight instructors to renew their flight instructor certificates due to its streamlined and simplified characteristics. However, the FAA concludes that this simplified application process has not sufficiently addressed the administrative burden on the FAA and flight instructors of renewing flight instructor certificates. Additionally, retaining the expiration dates on flight instructor certificates is inconsistent with most airman certificates issued under part 61, which do not have expiration dates. With most airman certificates, a person may continue to exercise airman privileges so long as the person meets the appropriate airman and medical recent experience requirements. Furthermore, the reinstatement requirements continue to provide a disincentive for flight instructors to reinstate their flight instructor certificates shortly after expiration because the only option available to reinstate a flight instructor certificate is to pass a flight instructor practical test.

⁴ NPRM, Pilot, Flight Instructor, and Pilot School Certification, 72 FR 5806, 5813 (Feb. 7, 2007).

⁵ Final Rule, Pilot, Flight Instructor, and Pilot School Certification, 74 FR 42500, 42508 (Aug. 21, 2009).

Therefore, the FAA is proposing to amend the expiration, renewal, and reinstatement requirements for flight instructors, which are found in §§ 61.19(d), 61.197, and 61.199, respectively. The FAA notes that this proposed rulemaking would also make several conforming amendments in part 61 to accommodate the amendments to §§ 61.19(d), 61.197, and 61.199. The following sections discuss the FAA's proposal in more detail.

1. Removal of Expiration Date on Flight Instructor Certificates (§ 61.19)

Currently, under § 61.19(d), the flight instructor certificate expires 24 calendar months from the month in which it was issued, renewed, or reinstated, as appropriate, except as provided in § 61.197(b). Section 61.197(b) prescribes requirements for determining the expiration month of a renewed flight instructor certificate.⁶

⁶ Currently, § 61.197(b) states the expiration month of a renewed flight instructor certificate shall be 24 calendar months from: (1) the month the renewal requirements of § 61.197(a) are accomplished; or (2) the month of expiration of the current flight instructor certificate provided the renewal requirements of § 61.197(a) are accomplished within 3 calendar months preceding the expiration month of the current flight instructor certificate; and if the renewal is accomplished by completing a FIRC, the approved FIRC must be completed within the 3 calendar months preceding the expiration month of the current flight instructor certificate.

The FAA is currently required to reissue physical certificates every time a flight instructor renews or reinstates their flight instructor certificate. This requirement leads to the FAA issuing many certificates each year.⁷ Moreover, while flight instructors are required to renew their flight instructor certificates once every 24 calendar months, flight instructors often renew them more frequently (i.e., the regulations do not prevent a flight instructor from renewing at an earlier date than their expiration), which results in a higher processing workload for the FAA. The FAA finds that removing the expiration date from the flight instructor certificate would reduce the financial and administrative burdens without degrading safety because the current renewal requirements would become recent experience requirements, which flight instructors would continue to meet at least once every 24 calendar months to retain their flight instructor privileges.

⁷ The FAA Airmen Certification Branch processed 54,189 flight instructor certificate renewals in 2021 and 48,433 flight instructor certificate renewals in 2020. The FAA notes that as of 2021, there were 121,270 flight instructors. See https://www.faa.gov/data_research/aviation_data_statistics/civil_airmen_statistics/.

The FAA's proposal to remove the expiration date from flight instructor certificates is also intended to align the flight instructor certificate requirements with other airman certificates. Most airman certificates issued under part 61 do not have expiration dates. Instead, a person may exercise the privileges of an airman certificate only if that person meets the appropriate recent experience requirements of part 61, specific to the operation or activity.⁸ Therefore, removing the expiration date on flight instructor certificates and changing the renewal requirements to recent experience requirements, which is discussed in the next section, would provide consistency in how airman certificates are issued and maintained under part 61.

⁸ Section 61.2(b)(1) states that no person may exercise privileges of an airman certificate, rating, endorsement, or authorization issued under part 61 unless that person meets the appropriate airman and medical recency requirements of part 61, specific to the operation or activity.

For these reasons, the FAA proposes to remove the expiration date from flight instructor certificates by revising § 61.19(d). Because flight instructor certificates with expiration dates would continue to exist on the final rule's effective date, if this proposal is finalized, the FAA is proposing to create two subparagraphs under § 61.19(d). Section 61.19(d)(1) would remove the expiration date for flight instructor certificates issued on or after the final rule's effective date. Section 61.19(d)(2) would retain the current requirement and state that flight instructor certificates issued before the final rule's effective date would expire 24 calendar months from the month in which they were issued, renewed, or reinstated, as appropriate. In light of the proposed amendments to remove the expiration date from a flight instructor certificate, the FAA finds a revision is necessary to § 61.19(a)(2) to include flight instructor certificates to those certificates considered valid unless surrendered, suspended, or revoked. In addition, the exception to § 61.197(b) would be removed from § 61.19(d) as unnecessary because, under this proposal, flight instructors would no longer have to determine the expiration month of a renewed flight instructor certificate.

2. Flight Instructor Recent Experience Requirements (§ 61.197)

Currently, § 61.197(a) provides five mechanisms by which a person who holds a flight instructor certificate that has not expired may renew that flight instructor certificate. Under the first option, a person may renew their flight instructor certificate by passing a practical test under § 61.197(a)(1). Under the second option, a person may demonstrate that, within the preceding 24 calendar months, the person has endorsed at least five students for a practical test and at least 80 percent of those students passed that test on the first attempt.⁹ The third option allows a person to show, within the preceding 24 calendar months, that the flight instructor has served as a company check pilot, chief flight instructor, company check airman, or flight instructor in a part 121 or part 135 operation, or in a position involving the regular evaluation of pilots.¹⁰ Under the fourth option, a person may demonstrate that the person has successfully completed an approved FIRC within the preceding 3 calendar months.¹¹ Lastly, a person may present a record showing that, within the preceding 24 calendar months, the person passed an official U.S. Armed Forces military instructor pilot or pilot examiner proficiency check in an aircraft for which the military instructor already holds a rating or in an aircraft for an additional rating.¹² The second through fifth options require a person to submit a completed and signed application with the FAA evidencing satisfactory completion of the chosen renewal option.

⁹ 14 CFR 61.197(a)(2)(i). The FAA notes that current § 61.197(a)(2)(i) uses the term “students.” The term “student” refers to an applicant for an airman certificate under part 61. However, the FAA believes the term “student” could be misinterpreted to mean “student pilot,” which does not include certificated pilots training for an additional certificate or rating under part 61. See 14 CFR part 61, subpart C. The FAA is therefore proposing to use to term “applicant” because it would more appropriately describe the five persons that the flight instructor may train and endorse under current § 61.197(a)(2)(i). For reasons discussed later in the preamble, the FAA is proposing to reorganize the requirements of § 61.197. The FAA notes that the requirement in current § 61.197(a)(2)(i) would be relocated to § 61.197(b)(2)(i).

¹⁰ 14 CFR 61.197(a)(2)(ii).

¹¹ 14 CFR 61.197(a)(2)(iii).

¹² 14 CFR 61.197(a)(2)(iv). The FAA recently revised § 61.197(a)(2)(iv) to expand the 12 calendar month timeframe to 24 calendar months. Final Rule, Regulatory Relief: Aviation Training Devices; Pilot Certification, Training, and Pilot Schools; and Other Provisions, 83 FR 30232 (Jun. 27, 2018).

On April 2, 1964, the FAA published an NPRM that proposed to establish biennial renewal requirements for flight instructor certificates.¹³ In the NPRM, the FAA proposed to require flight instructor certificates to be renewed every 24 months and to prohibit the exercise of the flight instructor privileges if the certificate expired without being renewed.¹⁴ In the preamble, the FAA explained that these requirements were intended to increase safety through a higher standard of flight instruction by ensuring that flight instruction was being given by flight instructors who were familiar with current flight training standards and procedures.¹⁵ The final rule was published on June 29, 1965, and the FAA adopted biennial requirements for flight instructor certificates in § 61.177.¹⁶ In a final rule published on February 1, 1973,¹⁷ the FAA recodified the flight instructor renewal requirements in § 61.197 and added additional options for flight instructors to renew, which were consistent with the intent of the original rule.¹⁸

¹³ NPRM, Biennial Expiration and Renewal of Flight Instructor Certificates and Increased Supervision of Student Pilot Activities, 29 FR 4738, 4739 (Apr. 2, 1964).

¹⁴ The NPRM stated that under proposed § 61.9, Duration of certificates, a flight instructor certificate expired at the end of the 24th month after the month in which it was issued or renewed, but the holder may have obtained another certificate under proposed § 61.177, Renewal of flight instructor certificates.

¹⁵ 29 FR at 4739.

¹⁶ Final Rule, Biennial Expiration and Renewal of Flight Instructor Certificates and Increased Supervision of Student Pilot Activities, 30 FR 8256 (Jun. 29, 1965).

¹⁷ Final Rule, Part 61 and Part 91 Miscellaneous Amendments, 38 FR 3156 (Feb. 1, 1973).

¹⁸ Prior to 1973, the only means by which a person could renew a flight instructor certificate was by passing a practical test. The 1973 final rule amended the renewal requirements to allow a person to renew his or her flight instructor certificate by either passing a practical test or by showing one of the following: (1) a record of instruction showing that he or she is a competent flight instructor; (2) a satisfactory record as a company check pilot, chief flight instructor, pilot in command of an aircraft operated under part 121, or other activity involving the regular evaluation of pilots, and passes any oral test that may be necessary to determine that instructor's knowledge of current pilot training and certification requirements and standards; or (3) successful completion, within 80 days before the application for renewal, of an approved FIRC. 38 FR at 3178.

As previously discussed, the FAA is proposing to remove the expiration date from the flight instructor certificate, which would eliminate the need to renew that certificate under current § 61.197. However, because the methods by which a person may renew a flight instructor certificate were adopted to ensure a high standard of flight training, the FAA finds it necessary to retain these methods under the new process.¹⁹ Therefore, to continue the high quality of flight training in general aviation, the FAA proposes to amend § 61.197 by changing the flight instructor renewal requirements to flight instructor recent experience requirements. More specifically, under this proposal, the FAA would retain the current methods for renewal, which are specified in § 61.197(a) but would refer to them as recent experience requirements. Instead of a flight instructor renewing their flight instructor certificate every 24 calendar months, a flight instructor would need to establish recent experience at least once every 24 calendar months. This proposed change would ensure the quality of flight training is not adversely affected by the removal of the expiration date from the flight instructor certificate and would also align the flight instructor certificate with the majority of airman certificates in part 61, which are recent experience-based. The FAA notes that proposed § 61.197 would not impose new requirements on flight instructors. As with the current rule, flight instructors would have the option to choose one of several methods to satisfy the recent experience requirements.

¹⁹ NPRM, Biennial Expiration and Renewal of Flight Instructor Certificates and Increased Supervision of Student Pilot Activities, 29 FR 4738, 4739 (Apr. 2, 1964).

Additionally, the FAA proposes to expand the regulatory options available to flight instructors to satisfy recent experience under § 61.197. Current § 61.197(a) identifies five methods for a flight instructor to renew a flight instructor certificate. FAA Order 8900.1, Volume 5, Chapter 2, Section 11 contains guidance about these methods. In this guidance, the FAA identifies the FAA's WINGS—Pilot Proficiency Program as an approved program that flight instructors can use to satisfy flight instructor certificate renewal requirements.²⁰

²⁰ The FAA notes that FAA Order 8900.1, Volume 5, Chapter 2, Section 11 was revised on September 12, 2018. Before the revision, the WINGS Program was accepted under § 61.197(a)(2)(iii) as an approved FIRC. Upon review of § 61.197 and its guidance, the FAA determined the WINGS Program did not meet the FIRC requirements of § 61.197(a)(2)(iii). Therefore, currently, the WINGS program is accepted under § 61.197(a)(2)(ii) as being “in a position involving the regular evaluation of pilots.” Information on the WINGS Program can be found in Advisory Circular (AC) 61-91, as revised, WINGS—Pilot Proficiency Program.

The WINGS Program is a voluntary pilot education and proficiency program. The program consists of learning activities and tasks selected to address the documented causal factors of aircraft accidents. The WINGS Program provides the opportunity, the structure, and the recognition for pilots and flight instructors to continue their aviation education. The WINGS Program also provides a vast and cost-free array of tools to help flight instructors perform their job more effectively, both when instructing on the ground and in flight. These tools include, but are not limited to, online lessons specifically designed to present critical information, updates, and activities to flight instructors concerning flight training and safety. Flight instructors are an integral part of the aviation community and play an important role in reducing the number of general aviation accidents by providing training and modeling best practices. Lessons and activities provided to flight instructors by the WINGS curriculum help to ensure flight instructors are familiar with current flight training standards and procedures. For these reasons, the FAA has determined that § 61.197 should include a standalone method that would allow persons to renew their flight instructor certificates or establish recent experience, as proposed, by serving as a flight instructor and participating in the WINGS program.

Because the WINGS Program is currently accepted as a certificate renewal method for flight instructors and the FAA finds that the program familiarizes flight instructors with current flight training standards and procedures, the FAA proposes to add regulatory text to § 61.197(b)(2) to expressly allow participation in the program as a method for meeting recent experience.²¹ Rather than codifying the WINGS Program itself, the FAA proposes to adopt language in § 61.197(b)(2)(v) that would allow a flight instructor to satisfy recent experience by serving as a flight instructor in an FAA-sponsored pilot proficiency program, provided certain proposed requirements are met. The phrase “FAA-sponsored pilot proficiency program” is intended to provide flexibility in the regulation to account for programs comparable to the WINGS Program that may be developed in the future. Among the proposed requirements, the flight instructor would be required to hold a flight instructor certificate and meet the appropriate flight instructor recent experience requirements of part 61. Additionally, the proposed rule would require the flight instructor to complete at least one phase of the FAA-sponsored pilot proficiency program in the preceding 12 calendar months from the time of application. The FAA finds that requiring a flight instructor to participate in the program by completing at least one phase in the preceding 12 months would ensure that the flight instructor maintains pilot proficiency while gaining first-hand knowledge of the program and its benefits.²² Lastly, the flight instructor would be required to have given at least 15 hours of flight training under the FAA-sponsored pilot proficiency program to at least 5 pilots and to have made appropriate endorsements in those pilots' logbooks.²³ A person serving as a flight instructor under the WINGS Program would satisfy this proposed requirement by giving flight training during at least 15 WINGS-accredited flight activities at any level to at least five different pilots. The FAA is proposing to require flight instructors to provide flight training to various individuals under the WINGS Program to ensure that the flight instructor encounters different experiences and familiarizes themselves with current flight training standards and procedures. Due to the proposed reorganization of § 61.197, which is discussed next, these proposed requirements are contained in § 61.197(b)(2)(v).

²¹ The FAA notes that the certificate renewal options are currently located in § 61.197(a)(2); however, in proposing to reorganize § 61.197, the FAA proposes to relocate the certificate renewal options (which would be recent experience options under the proposal) to proposed § 61.197(b)(2).

²² For more information about the various phases and levels of the WINGS Program, refer to FAA Order 8900.1, Volume 5, Chapter 2, Section 11 and Advisory Circular 61-91, as revised.

²³ The FAA notes that, currently, the WINGS Program records and validates all of the flight instructor's activities within the program, including endorsements made. The flight instructor may print a copy of the flight instructor's activity, including endorsements, as documentation for renewal eligibility. The FAA assumes that future FAA-sponsored pilot proficiency programs would enable the same tracking mechanisms.

In changing the flight instructor renewal requirements to flight instructor recent experience requirements, the FAA proposes to reorganize the requirements of § 61.197 for clarity. Proposed § 61.197(a) would prohibit a person from exercising flight instructor privileges if that person has not satisfied the flight instructor recent experience requirements within the preceding 24 calendar months. Proposed § 61.197(a) would also specify how to determine when the 24 calendar month period begins. Initially, as proposed in § 61.197(a)(1), the 24 calendar month period would begin the month the FAA issues the flight instructor certificate without an expiration date to the person.²⁴ This would be the case for persons who are being issued the flight instructor certificate for the first time and also for persons renewing their flight instructor certificate upon completing the recent experience requirements to obtain a flight instructor certificate without an expiration date. As discussed further below, persons who currently hold a flight instructor certificate with an expiration date would be required to meet the recent experience requirements prior to the expiration date listed on their certificate. After the initial 24 calendar month period following the issuance of the flight instructor certificate without an expiration date, persons would determine the beginning of the subsequent 24 calendar month period based on when they accomplish the recent experience event. For example, if a person accomplishes recency during the first 20 months of their current recent experience period, that person's next 24 calendar month period would begin the month the recent experience requirements are accomplished. However, consistent with what the FAA currently allows,²⁵ if a person accomplishes recency within the 3 calendar months preceding the last month of the person's current recent experience period (i.e., the 24th calendar month), the next 24 calendar month period would begin the last month of the flight instructor's current recent experience period (i.e., the 24th calendar month).

²⁴ The FAA notes that the flight instructor's initial certificate without the expiration date will state a date of issuance, indicating when the 24 calendar month period would begin.

²⁵ Currently, § 61.197(b) allows the expiration month of a renewed flight instructor certificate to be 24 calendar months from the current expiration month if the renewal requirements are accomplished within the 3 calendar months preceding the expiration month of the current flight instructor certificate.

The FAA proposes to relocate the current renewal requirements, which would become recent experience requirements, from § 61.197(a) to § 61.197(b). Current § 61.197(b), which prescribes requirements for determining the expiration month of a renewed flight instructor certificate, would be removed as unnecessary. Current § 61.197(c), which allows the practical test required by § 61.197(a)(1) to be accomplished in a full flight simulator or flight training device if the test is accomplished under an approved course conducted by a part 142 training center, would be re-designated as § 61.197(d).²⁶

²⁶ In a final rule that published on June 27, 2018, the FAA replaced the words “flight simulator” with “full flight simulator” in several regulations, including current § 61.197(c). Final Rule, Regulatory Relief: Aviation Training Devices; Pilot Certification, Training, and Pilot Schools; and Other Provisions, 83 FR 30232.

The FAA also proposes to add two new paragraphs to § 61.197 to accommodate the change from renewal requirements to recent experience requirements. First, the FAA proposes to add § 61.197(c) to prohibit a person who fails to establish recent experience in accordance with the proposed requirements from exercising flight instructor privileges until that person reinstates their flight instructor privileges in accordance with proposed § 61.199. Second, the FAA proposes to add § 61.197(e) to address persons who currently hold flight instructor certificates with expiration dates. Under this proposal, a person who holds a flight instructor certificate with an expiration date would be required to renew that certificate by establishing recent experience in accordance with proposed § 61.197(b). Upon completing recent experience, that person would submit an Airman Certificate and/or Rating Application and associated documentation to the Airman Certification Branch to document experience and obtain a flight instructor certificate without an expiration date. If a person who holds a flight instructor certificate with an expiration date fails to establish recent experience prior to the expiration of their flight instructor certificate, that person may not exercise flight instructor privileges until those privileges are reinstated in accordance with § 61.199. Upon reinstating flight instructor privileges, that person would be issued a flight instructor certificate without an expiration date.

Currently, when a person renews their flight instructor certificate, that person is required to submit an Airman Certificate and/or Rating Application (FAA Form 8710-1 or 8710-11, as applicable) to the FAA along with associated documentation that shows the flight instructor satisfactorily completed one of the renewal requirements.²⁷ The airman submits FAA Form 8710-1 or 8710-11, as applicable, through the Integrated Airman Certification and Rating Application (IACRA) or by conventional mail to the Airman Certification Branch. Maintaining these records enables the FAA to keep track of how many flight instructor certificates have been renewed. The FAA notes that it is frequently asked to provide this data from many sources, such as governmental offices and industry. Under the proposed amendments, § 61.197 would continue to require persons to submit an Airman Certificate and/or Rating Application and associated documentation ²⁸ to the FAA upon completion of the recent experience requirements. Submission of FAA Forms 8710-1 or 8710-11, as applicable, would remain the exclusive form and manner acceptable to the Administrator to submit flight instructor data to identify, validate, and track the flight instructor's recent experience period.

²⁷ 14 CFR 61.197(a)(2).

²⁸ Acceptable associated documentation submitted by the flight instructor to evidence completion of recent experience would not change under this proposed rule. Documentation would continue to be official company, FAA, military, or organizational records, as applicable. Acceptable documentation would show that the flight instructor met one of the recent experience options under § 61.197 and could include: a record of the names of applicants endorsed who passed the practical test and test dates (proposed § 61.197(b)(2)(i)), copies of official company records (proposed § 61.197(b)(2)(ii)), a copy of a FIRC graduation certificate (proposed § 61.197(b)(2)(iii), official military records (proposed § 61.197(b)(2)(iv)), or a copy of an FAA-sponsored pilot proficiency program activity report (proposed § 61.197(b)(2)(v)). Additional details regarding acceptable documentation criteria are provided in FAA Order 8900.1, Volume 5, Chapter 2, Section 11, paragraph 5-504.

This process would allow the FAA to track and record the status of flight instructor certificates by capturing the events in which an applicant satisfies the proposed recent experience requirements of § 61.197. While the flight instructor would not be applying to renew a certificate, the FAA finds it is necessary to maintain Forms 8710-1 and 8710-11 as the collection mechanism because it would allow the FAA to continue to track the number of flight instructors who are eligible to exercise the privileges of their flight instructor certificates in a manner that flight instructors are accustomed. Additionally, utilizing Forms 8710-1 and 8710-11 would allow the FAA to validate that the flight instructor does, in fact, satisfy the recent experience requirements. Should the FAA find that the flight instructor either does not sufficiently show a recent experience requirement has been met, or does not meet the recent experience requirements, the FAA would deny the applicant's 8710-1, and direct the appropriate Flight Standards District Office (FSDO) to issue a Letter of Disapproval to the flight instructor. To ensure the flight instructor is prepared to show satisfactory evidence of meeting recent experience, the FAA recommends that flight instructors record the date and method used to establish recent experience in their logbooks or records to track their eligibility to exercise flight instructor privileges. The FAA notes that a flight instructor would be able to verify the status of their flight instructor certificate online at Airmen On-Line Services or by contacting the FAA Airman Certification Branch.²⁹

²⁹ The FAA notes that a flight instructor would have several methods to contact the FAA to verify the status of the person's flight instructor certificate. The preferred method would be the Airmen Certification On-line services site. See https://amsrvs.registry.faa.gov/airmeninquiry/. The other methods include toll free phone, direct mail, and FAX.

The FAA has revised FAA Forms 8710-1 and 8710-11 to account for recent experience for flight instructors and has placed a draft of each revised form in the docket for this rulemaking. The FAA notes that, in addition to the recent experience revisions, the FAA has also modified the form to clarify certain information. Specifically, and unrelated to this rulemaking, the FAA published a notice in the Federal Register inviting public comment on an information collection renewal for Forms 8130-15, 8710-11, and 8710-12 on April 7, 2022 (87 FR 20497, Docket. No. FAA-2022-0455). AOPA commented in response to the notice recommending Question I.Za. on Form 8710-11 be amended to clarify whether alcohol offenses (generally) and those involving motor vehicle actions (specifically) should be reported on the form. The FAA has clarified this question and added requisite instructions in response to AOPA's comment on both draft forms. While revising the form, the FAA also clarified question M. to restate from the instructions page that a student pilot certificate is considered a pilot certificate for purposes of the question. Finally, the FAA has also removed references to inspection authorization in both draft forms, as the FAA does not use these forms for initial or renewal inspection authorization applications. Rather, mechanics applying for an inspection authorization utilize Form 8610-1, which contains the requisite information. The FAA has analyzed these changes and determined that they do not affect the collection of information expected of the public such that any burden would increase.

3. Reinstatement of Flight Instructor Privileges (§ 61.199)

Currently, § 61.199 prescribes the reinstatement requirements for flight instructors who have allowed their flight instructor certificates to expire. To reinstate a flight instructor certificate, a person must either satisfactorily complete a flight instructor practical test or satisfy the reinstatement requirements for military instructor pilots. More specifically, a person who is not a military instructor pilot must satisfactorily complete either a flight instructor practical test for one of the ratings held on the expired flight instructor certificate or a flight instructor certification practical test for an additional rating. Military instructor pilots may either complete a flight instructor practical test or satisfy the requirements prescribed specifically for military instructor pilots in § 61.199(a)(3).³⁰ The reinstatement requirements of § 61.199 apply regardless of how recently the flight instructor certificate expired.

³⁰ Under these reinstatement requirements, which are currently contained in § 61.199(a)(3), a military instructor pilot must provide a record showing that, within the preceding 6 calendar months the military instructor pilot either passed a U.S. Armed Forces instructor pilot or pilot examiner proficiency check; or completed a U.S. Armed Forces' instructor pilot or pilot examiner training course and received an additional aircraft rating qualification as a military instructor pilot or pilot examiner that is appropriate to the flight instructor rating sought. While this option has also been extended to military pilot examiners, as evidenced in § 61.199(a)(3)(ii) of completing a pilot examiner training course, the introductory text of § 61.199(a)(3) is currently silent as to their inclusion. Therefore, the FAA proposes to add pilot examiners to § 61.199(a)(3) for consistency and clarity.

The FAA adopted the requirement for a flight instructor to take a practical test upon expiration of their flight instructor certificate in 1965 ³¹ when the FAA adopted the biennial renewal requirements for flight instructor certificates, as previously discussed in section III.A.2 of this preamble. For the renewal or reinstatement of a flight instructor certificate, the FAA required a person to satisfactorily demonstrate to the Administrator the applicant's ability to give flight instruction by passing a practical test. However, the final rule allowed the Administrator to limit the test to those items necessary to determine continued competency of the applicant if the certificate was unexpired and the person's record of flight instruction warranted it. The FAA adopted the biennial expiration and renewal requirements to create a higher standard of flight instruction and ensure that flight instructors were familiar with current flight training standards and procedures.

³¹ 30 FR 8256.

Today, a flight instructor may renew a flight instructor certificate by completing an approved FIRC prior to the expiration date listed on their certificate. The FAA is retaining this method of renewal. However, a flight instructor who allows their flight instructor certificate to expire must pass a practical test regardless of how recently the flight instructor certificate expired. The FAA finds that the knowledge and skills of a person who renews their flight instructor certificate by completing an approved FIRC within the 24 month renewal window are comparable to the knowledge and skills of a person whose flight instructor certificate expired less than three calendar months after that period. Therefore, the FAA finds it unnecessary to require a person to take a flight instructor practical test during the first three calendar months following the expiration of the person's flight instructor certificate, or following the person's lapse in recent experience as proposed, because the flight instructor's knowledge and skills will not have degraded significantly during that time.

Furthermore, the FAA finds that the current reinstatement requirements of § 61.199 (i.e., successful completion of a practical test) discourages many flight instructors who would otherwise renew their certificates shortly after expiration when there is little degradation in knowledge and experience. For example, a person whose flight instructor certificate has been expired for only one day is still required to take a practical test even though the completion of an approved FIRC and submission of the documents required under § 61.197(a)(2) a few days sooner would have been sufficient. The FAA has determined that requiring a flight instructor to take a practical test shortly after their flight instructor certificate expires imposes unnecessary personal and financial burdens on that flight instructor. Taking a practical test is a time and cost-intensive endeavor. This expenditure generally includes the applicant's personal time to prepare for, arrange, and take the test; the cost of a designated examiner to conduct the test; and the aircraft operational or rental costs incurred while taking the test. These costs are significantly higher than the cost of completing an approved FIRC ³² under current § 61.197(a)(2)(iii).³³

³² Refer to footnote 81 for estimated cost for taking a practical reinstatement test and the estimated savings that the FAA proposal would provide by allowing a flight instructor to complete an approved FIRC during the first three months following the flight instructor's lapse in recent experience.

³³ The FAA notes that the FAA proposes to reorganize § 61.197 and relocate § 61.197(a)(2)(iii) to § 61.197(b)(2)(iii).

An approved FIRC informs flight instructors of the recent changes in general aviation flight training; provides flight instructors with the necessary refresher training; and exposes flight instructors to the latest in-flight training techniques, the newest technologies, and the latest operational safety procedures. FIRCs also emphasize development and improvement of the instructor skills necessary to effectively convey information to pilots-in-training and build a foundational culture of safety within them.³⁴ The FAA finds that allowing a flight instructor to complete an approved FIRC during the first three months following the flight instructor's lapse in recent experience would achieve the same level of safety as the current reinstatement requirements by ensuring flight instructors have the necessary level of aeronautical knowledge to perform their job effectively.

³⁴ See Advisory Circular 61-83, as revised, Nationally Scheduled, FAA-Approved, Industry-Conducted Flight Instructor Refresher Course.

The FAA understands that a flight instructor's technical knowledge and instructional proficiency diminishes over prolonged inactivity; however, a flight instructor's knowledge and proficiency is not diminished on the day, or shortly after the day, the instructor's recent experience period has lapsed. Therefore, the FAA determined that mandating a practical test, as the only means to reinstate a flight instructor's recent experience and privileges, is unwarranted shortly after a flight instructor's recent experience lapses. As discussed earlier, AOPA also asked the FAA to add a three-month period to allow a flight instructor to reestablish recent experience by completing a FIRC within those three months. The FAA finds that three-calendar-months following the flight instructor's lapse of recent experience is an appropriate period to reinstate the privileges of their flight instructor certificate by completing a FIRC without adversely affecting the quality of flight training or flight safety. For the reasons discussed above, the FAA determined that there is good cause to propose a three-calendar-month period to allow flight instructors to reinstate their privileges to instruct by completing an approved FIRC.

The FAA's proposal to add a three-calendar-month reinstatement period that would allow flight instructors to take an approved FIRC rather than a practical test is intended to encourage flight instructors to reinstate their flight instructor privileges during the three calendar months following their lapse in recent experience. The FAA notes that a flight instructor may not exercise the privileges of their flight instructor certificate when their recent experience has lapsed. Furthermore, this option would accommodate flight instructors who have encountered unique circumstances, such as national disasters, that may have prevented them from renewing their certificates before the expiration date.

As explained in the previous sections, flight instructor certificates would not expire under this proposal, and flight instructors would be required to satisfy recent experience requirements rather than renewal requirements. As a result, the FAA proposes to make conforming amendments to § 61.199. More specifically, § 61.199 would contain the requirements for reinstating flight instructor privileges for persons who have allowed their recent experience to lapse, rather than reinstatement requirements for expired flight instructor certificates.

Accordingly, the FAA proposes to amend § 61.199(a) by adding a three-calendar-month reinstatement period that would immediately follow the flight instructor's lapse in recent experience, during which a person would have the option to reinstate their flight instructor privileges by completing an approved FIRC. This new reinstatement option would be contained in § 61.199(a)(1). The FAA notes that proposed § 61.199(a)(1) would also retain the option for a person to reinstate their flight instructor privileges during the first three calendar months by passing a practical test in accordance with proposed § 61.199(a)(2) because this option is currently allowed today. Proposed § 61.199(a)(2) would contain the current requirements and would apply if more than three calendar months have passed since the last month of the flight instructor's recent experience period. Therefore, under proposed § 61.199(a)(2), a person would be required to pass either a flight instructor practical test for one of the ratings held on their flight instructor certificate or a flight instructor practical test for an additional rating.³⁵

³⁵ The FAA notes that § 61.199(a)(3) will remain unchanged, thereby retaining the reinstatement option for military pilots to either pass a U.S. Armed Forces instructor pilot or pilot examiner proficiency check or complete a U.S. Armed Forces' instructor pilot or pilot examiner training course and receive an additional aircraft rating qualification as a military instructor pilot or pilot examiner.

Additionally, in a 2018 final rule, the FAA added a temporary provision to § 61.199(c) to allow military instructors who obtained their initial flight instructor certificate under subpart H prior to October 20, 2009, to reinstate that instructor certificate based on military experience rather than by completing a practical test.³⁶ Per § 61.199(d), this temporary provision expired on August 26, 2019. As this expiration date has passed and this method of reinstatement for expired flight instructor certificates is no longer permitted, the FAA proposes to remove § 61.199(c) and (d) from the regulations.

³⁶ 83 FR 30232.

B. Conforming Amendments (§§ 61.2, 61.56, 61.425, 61.427, and Special Federal Aviation Regulation (SFAR) No. 100-2)

The FAA proposes to make conforming amendments to §§ 61.2, 61.56, 61.425, 61.427, and Special Federal Aviation Regulation (SFAR) No. 100-2 to ensure consistency with the FAA's proposal to amend §§ 61.197 and 61.199. For reasons discussed in more detail below, the FAA also proposes to relocate and codify the requirements of SFAR 100-2 in the regulations.

1. Proposed Amendments to §§ 61.2, 61.56, 61.425, and 61.427

Section 61.2(b) requires persons to meet the appropriate airman and medical recent experience requirements to exercise privileges of an airman certificate, rating, endorsement, authorization, or foreign pilot license. Currently, § 61.2(b) refers to the recent experience requirements of part 61 as “recency” requirements rather than “recent experience” requirements. The FAA recognizes that it uses the terms “recency,” “recent flight experience,” and “recent experience” requirements interchangeably in the regulations. However, the terms “recent flight experience” and “recent experience” are used more frequently than “recency.” The FAA proposes to revise § 61.2(b) to use the term “recent experience” requirements to create consistency within part 61 and conform to the proposed changes to § 61.197, which would create recent experience requirements for flight instructors. The FAA notes that the term “recent experience” is more appropriate than “recent flight experience” because § 61.2(b) requires a person to meet the appropriate airman and medical recent experience requirements of part 61, which contain more than flight experience requirements.

Section 61.56 prescribes the requirements for a flight review, which must consist of a minimum of 1 hour of flight training and 1 hour of ground training. Except as specified in § 61.56(d), (e), and (g), a person may not act as pilot-in-command (PIC) of an aircraft unless that person has accomplished a flight review in the 24 calendar months preceding the month in which the pilot acts as PIC.³⁷ Therefore, § 61.56(d) contains certain exceptions to the flight review requirements. Under § 61.56(d)(2), a person need not accomplish a flight review if the person has passed a practical test conducted by an examiner for one of the following: the issuance of a flight instructor certificate, an additional rating on a flight instructor certificate, renewal of a flight instructor certificate, or the reinstatement of a flight instructor certificate.

³⁷ 14 CFR 61.56(c).

Under the proposal, flight instructor certificates would no longer expire, and flight instructors would no longer be required to renew their flight instructor certificates under § 61.197. Instead, § 61.197 would contain flight instructor recent experience requirements and allow a person to establish recent experience by passing a practical test for one of the ratings listed on the flight instructor certificate or for an additional flight instructor rating. Additionally, § 61.199 would contain requirements for reinstating flight instructor privileges rather than requirements for reinstating an expired flight instructor certificate. Among the options for reinstatement, a person may pass a flight instructor practical test. Therefore, the FAA is proposing to revise the language of § 61.56(d)(2) to conform to the changes proposed in §§ 61.197 and 61.199.

Additionally, the FAA is proposing a minor editorial change to § 61.56(e) to remove the word “award” in the description of the FAA-sponsored pilot proficiency program. The FAA currently sponsors a pilot proficiency program termed WINGS, which was previously described as an “awards” program. However, the FAA no longer assigns this terminology to WINGS, as the WINGS program is more properly described simply as a proficiency program designed to help improve pilot skills and knowledge. Further, the removal of the term “award” more accurately encompasses the general objectives of a pilot proficiency program to meet the flight renewal provision of § 61.56(e) should the FAA sponsor additional programs.

Section 61.56(f) provides an exception to the ground training portion of the flight review requirement. Under current § 61.56(f), a person who has satisfactorily renewed their flight instructor certificate under current § 61.197 is not required to accomplish the one hour of ground training required for a flight review. Because proposed § 61.197 would contain recent experience requirements for a flight instructor certificate rather than renewal requirements, the FAA is proposing to make conforming amendments to § 61.56(f). Therefore, § 61.56(f) would except a flight instructor from the ground training requirements of a flight review if that flight instructor has met the recent experience requirements for a flight instructor certificate under § 61.197.

In addition, the FAA proposes to revise § 61.56(f) to except any persons who reinstate their flight instructor privileges from the ground training portion of the flight review by completing an approved FIRC within the three calendar month reinstatement period proposed in § 61.199(a)(1). Under the proposal, a person who reinstates their flight instructor privileges by completing a practical test under § 61.199(a)(2) would be excepted from the entire flight review. However, a person who satisfies recent flight instructor experience by satisfactorily completing an approved FIRC would be excepted from only the ground training portion of the flight review. The FAA finds that a person who reinstates their flight instructor privileges by completing an approved FIRC during the three-calendar-month reinstatement period should be given the same relief as a person who establishes recent experience by completing an approved FIRC. The FAA proposes to revise § 61.56(f) accordingly.

Currently, §§ 61.425 and 61.427 prescribe renewal and reinstatement requirements for persons who hold a flight instructor certificate with a sport pilot rating. Under § 61.425, a person who holds a flight instructor certificate with a sport pilot rating may renew that certificate in accordance with § 61.197. Section 61.427 allows a person to exchange their expired flight instructor certificate with a sport pilot rating for a new certificate with a sport pilot rating and any rating on that certificate by passing a practical test as prescribed in § 61.405(b) or § 61.183(h) for one of the ratings listed on their expired flight instructor certificate.

To ensure consistency with the proposed amendments to §§ 61.197 and 61.199, the FAA proposes to make conforming amendments to §§ 61.425 and 61.427. The FAA proposes to bifurcate § 61.425 into two paragraphs. Section 61.425(a) would govern flight instructor certificates issued without expiration dates. Section 61.425(b) would govern flight instructor certificates issued prior to the final rule becoming effective, which would contain expiration dates. Thus, § 61.425(a) would require a person who holds a flight instructor certificate with a sport pilot rating issued after the final rule's effective date to establish recent experience in accordance with § 61.197 (i.e., within the 24 preceding months, the person has satisfied one of the recent experience requirements in § 61.197(b)). For persons who hold unexpired flight instructor certificates with a sport pilot rating issued before the final rule becomes effective, § 61.425(b) would allow those persons to renew their certificate by establishing recent experience in accordance with § 61.197 prior to the expiration month listed on their flight instructor certificate.

In addition, the FAA proposes to revise § 61.427 to align with the proposed amendments to § 61.199. Therefore, proposed § 61.427 would address how to reinstate flight instructor privileges if a person fails to establish recent experience for a flight instructor certificate with a sport pilot rating. Consistent with proposed § 61.199, a person who holds a flight instructor certificate with a sport pilot rating must reinstate their flight instructor privileges by successfully completing an approved FIRC if three calendar months or less have passed since the last month of their recent experience period. Section 61.427(a) would contain this proposed requirement. If more than three calendar months have passed since the last month of the flight instructor's recent experience period, the flight instructor with a sport pilot rating would be required to pass a practical test in accordance with proposed § 61.427(b) to reinstate their flight instructor privileges.

2. Proposed Amendments to SFAR No. 100-2

Currently, SFAR No. 100-2 provides relief to U.S. military and civilian personnel who have served outside the United States in support of U.S. Armed Forces operations during some period of time beginning on or after September 11, 2001. To be eligible for the relief under SFAR No. 100-2, the person's flight instructor certificate, airman written test report, or inspection authorization must have expired sometime between September 11, 2001, and six calendar months after returning to the United States. SFAR No. 100-2 allows these persons to present an expired flight instructor certificate to show eligibility for renewal of a flight instructor certificate under § 61.197; an expired written test report to show eligibility to take a practical test under parts 61, 63, and 65; and an expired inspection authorization to show eligibility for renewal under § 65.93. To exercise the relief provided by SFAR No. 100-2, the person must renew their flight instructor certificate or inspection authorization, as appropriate, or pass the appropriate practical test within six calendar months after returning to the United States. The FAA recognizes that a person could have multiple deployments. The FAA, therefore, notes that this SFAR provision does not allow a person to exercise the relief within six calendar months after returning from the United States following any deployment. Instead, a person must exercise the relief within the six calendar months after returning to the United States following the deployment where the flight instructor certificate, written test report, or inspection authorization expired. In addition, a person must submit required documentation to the FAA with their Airman Certificate and/or Rating Application. Currently, SFAR No. 100-2 is “effective until further notice.”

The relief provided by SFAR No. 100-2 has existed since the FAA issued SFAR No. 96 on May 6, 2002. After the terrorist attacks of September 11, 2001, many U.S. military and civilian personnel were assigned outside the United States in support of Operation Enduring Freedom. For this reason, the FAA adopted SFAR No. 96 to provide relief to a narrow range of individuals in a narrow set of circumstances.³⁸ As a result of the continuing conflicts, the FAA superseded SFAR No. 96 with SFAR No. 100, which applied to all military and civilian personnel assigned overseas in support of any and all U.S. Armed Forces operations.³⁹ On June 30, 2005, the FAA extended SFAR No. 100 by issuing SFAR No. 100-1 with an expiration date of June 20, 2010.⁴⁰ The FAA subsequently replaced SFAR No. 100-1 with SFAR No. 100-2 on March 4, 2010.⁴¹ The FAA issued SFAR No. 100-2 without an expiration date to ensure the U.S. personnel assigned outside of the United States, who continue to preserve, protect, and defend the American public, can obtain additional time for renewal of their flight instructor certificates, inspection authorizations, and airman written test reports.

³⁸ Final Rule, Relief for Participants in Operation Enduring Freedom, 67 FR 30524 (May 6, 2002).

³⁹ Final Rule, Relief for U.S. Military and Civilian Personnel Who Are Assigned Outside the United States in Support of U.S. Armed Forces Operations, 68 FR 36902 (Jun. 20, 2003).

⁴⁰ 70 FR 37946.

⁴¹ 75 FR 9763.

As evident from the history of the SFAR, there is an ongoing need to retain the relief provided by SFAR No. 100-2. The relief has existed for over 19 years, and the FAA is unable to determine an expiration date for the relief because of ongoing overseas operations. Because SFAR No. 100-2 is not temporary, the FAA finds that the content of SFAR No. 100-2 would be more appropriately addressed as a new section in part 61. Therefore, the FAA is proposing to relocate and codify the contents of SFAR No. 100-2 into the regulations. Because SFAR No. 100-2 provides relief to persons under parts 61, 63, and 65, the FAA proposes to codify the contents of SFAR No. 100-2 by amending parts 61, 63, and 65.

Specifically, the FAA proposes to add new § 61.40, which would codify the general contents of SFAR No. 100-2. Then, the FAA proposes to revise various sections of parts 61, 63, and 65 by including cross-references to § 61.40 where necessary to ensure the relief of SFAR No. 100-2 is appropriately codified in the appropriate part. The FAA emphasizes that it is not proposing any substantive changes to the content of SFAR No. 100-2 other than extending the relief to include persons who have failed to establish recent flight instructor experience requirements in accordance with proposed § 61.197, which is discussed in more detail below. However, the FAA has contemplated revising the provisions that reference the September 11, 2001 date because more than 20 years have passed since that date occurred.

The FAA proposes to relocate the content of SFAR No. 100-2 to new § 61.40. Proposed § 61.40(a) would prescribe the documents that must be presented to show eligibility to renew a flight instructor certificate, establish recent flight instructor experience, take a practical test, or renew an inspection authorization, as appropriate. Proposed § 61.40(b) would contain the requirements for a person to be deemed eligible for the relief specified in § 61.40(a). Lastly, proposed § 61.40(c) would contain the documentation requirements. The FAA notes that paragraph 3 of SFAR No. 100-2, which contains the current documentation requirements, requires a person to submit ⁴² the Airman Certificate/or Rating Application, FAA Form 8710-1 or 8710-11, as applicable, to the appropriate Flight Standards office. However, FAA Form 8710-1 is not the appropriate application for every person seeking relief under SFAR No. 100-2.⁴³ Therefore, in addition to its proposal to relocate the documentation requirements to § 61.40(c), the FAA proposes to revise the provision to require a person to complete the application appropriate to the relief sought.

⁴² The FAA notes that currently SFAR No. 100-2 paragraph 3 requires a person to send the Airman Certificate and/or Rating application to the appropriate Flight Standards office. The FAA proposes to change this language to submit because there are now several acceptable ways in which the person may provide the FAA the application (e.g., virtual conferencing tool, in-person) rather than only sending through traditional mail.

⁴³ FAA Form 8710-1 is the application for pilots, flight instructors, and ground instructors. However, SFAR No. 100-2 also provides relief for persons seeking to take practical tests under parts 63 and 65 with expired written test reports and relief for a person seeking to renew an expired inspection authorization under part 65. Therefore, a person seeking relief under the requirements of SFAR No. 100-2 should complete and submit the application appropriate to the relief sought, which may be FAA Form 8710-1, 8400-3, 8610-1, or 8610-2. FAA Form 8400-3 is the application for flight engineers, flight navigators, aircraft dispatchers, and control tower operators. FAA Form 8610-1 is the mechanic's application for inspection authorization. FAA Form 8610-2 is the application for mechanics, repairmen, and parachute riggers.

Depending on the date the flight instructor certificate was issued, proposed § 61.40(a)(1) through (3) would allow flight instructors to either renew their expired flight instructor certificate or establish recent flight instructor experience in accordance with § 61.197. As previously mentioned, SFAR No. 100-2 currently provides relief to a person whose flight instructor certificate expires as a result of the person's service overseas. Because the FAA's proposal would remove the expiration dates from flight instructor certificates and convert the flight instructor renewal requirements of § 61.197 to recent experience requirements, the FAA proposes to make conforming amendments to the existing requirements in SFAR No. 100-2. More specifically, the FAA proposes to extend the relief to persons who fail to establish the recent experience requirements of proposed § 61.197 as a result of their service in support of U.S. Armed Forces' operations. For flight instructor certificates issued after the final rule becomes effective, the person would be required to present a record demonstrating the last recent experience event accomplished under § 61.197 to show eligibility to reestablish recent experience under § 61.197. However, the FAA recognizes that there may be persons who are issued a flight instructor certificate for the first time after the final rule becomes effective that are unable to establish recent experience during their first 24 months as a flight instructor. For these persons, the FAA proposes to allow them to present a flight instructor certificate demonstrating the date of issuance to show eligibility to establish recent experience under § 61.197. The FAA proposes to codify this relief by adding new § 61.40(a)(2) and (3) and by including the necessary cross-references in proposed § 61.197(c) and (e). Proposed § 61.40(a)(1) would contain the existing relief for persons holding expired flight instructor certificates.

Proposed § 61.40(a)(4) through (6) would allow eligible persons to take a practical test under parts 61, 63, and 65 with expired written test reports. The FAA recognizes that there are several regulations throughout parts 61, 63, and 65 that require the applicant to have passed the knowledge test within the 24-calendar-month period preceding the month the applicant completes the practical test. Therefore, the FAA proposes to revise certain sections of parts 61, 63, and 65 to enable persons to exercise the relief provided by proposed § 61.40. More specifically, the FAA proposes to revise § 61.39, which contains the prerequisites for practical tests under part 61, by adding new § 61.39(e) to allow applicants for an airman certificate or rating under part 61 to take a practical test with an expired knowledge test if that applicant meets the requirements of proposed § 61.40. The FAA also proposes to include exception language referencing new § 61.39(e) in § 61.39(a), (b), and (c), which would implement the relief provided by proposed § 61.40. With respect to part 63, the FAA proposes to revise §§ 63.35(d) and 63.53 to allow applicants for flight engineer certificates or ratings and applicants for flight navigator certificates to take their practical tests under part 63 with expired written test reports in accordance with § 61.40.⁴⁴ With respect to part 65, the FAA proposes to revise §§ 65.55 and 65.71 ⁴⁵ to allow applicants for aircraft dispatcher certificates and mechanic certificates or ratings to take their practical tests under part 65 with expired written test reports in accordance with § 61.40. Proposed § 65.55(b) and (c) add an exception to allow eligible persons to take a practical test for an aircraft dispatcher certificate under part 65 with an expired written test report in accordance with § 61.40. Proposed § 65.75(d) excepts eligible persons from the requirement that a certificated mechanic must pass the required tests within a period of 24 months. These revisions would ensure the relief currently provided by SFAR No. 100-2 would remain unchanged under the FAA's proposal to relocate and codify the relief in the regulations.

⁴⁴ Additionally, the FAA proposes to revise § 63.35(c) to remove a gender reference and clarify that the 24 month period is calendar months.

⁴⁵ The FAA also proposes to revise § 65.71(a)(4) to remove a gender reference and clarify that the 24 month period is calendar months.

Lastly, proposed § 61.40(a)(6) would allow persons to renew an expired inspection authorization under § 65.93. Because § 65.93 does not currently allow for this relief, the FAA proposes to add new paragraph (d) and to include exception language in current § 65.93(a) to expressly allow an eligible person to renew an expired inspection authorization under part 65 in accordance with § 61.40.

The following table shows which regulations the FAA proposes to revise to enable the codification of SFAR No. 100-2. The table also shows where the FAA proposes to codify each provision of SFAR No. 100-2.

Summary of Proposed Changes to Special Federal Aviation Regulation No. 100-2
Description of proposed revision | Proposed sections of 14 CFR parts 61, 63, and 65 | Current section/paragraph of SFAR No. 100-2
Excepts eligible persons from the requirement to have passed the required knowledge test within the 24 calendar month period preceding the month the applicant completes the practical test for an airman certificate under part 61 | § 61.39(a), (b), (c) and (e) | Section 1. Applicability, paragraph (a).
Codifies the relief provided by current SFAR No. 100-2 and expands the relief to include persons who have failed to meet the recent experience requirements of proposed § 61.197 | § 61.40(a) | Section 1. Applicability, paragraphs (a) through (c).
Codifies the eligibility requirements for persons seeking relief under SFAR No. 100-2 | § 61.40(b) | Section 2. Eligibility, paragraphs (a) through (c).
Codifies the documentation required to accompany the person's Airman Certificate and/or Rating Application, which must show the date of assignment outside the United States and the date of return to the United States | § 61.40(c) | Section 3. Required documents, paragraphs (a) through (c).
Excepts eligible persons from the requirement to establish recent flight instructor experience at least once every 24 calendar months | § 61.197(c), (e) and (f) | N/A.
Adds an exception to allow eligible persons to take a practical test for a flight engineer certificate or rating under part 63 with an expired written test report in accordance with § 61.40 | § 63.35(d) | Section 1. Applicability, paragraph (b).
Adds an exception to allow eligible persons to take a practical test for a flight navigator certificate under part 63 with an expired written test report in accordance with § 61.40 | § 63.53(b) and (c) | Section 1. Applicability, paragraph (b).
Adds an exception to allow eligible persons to take a practical test for an aircraft dispatcher certificate under part 65 with an expired written test report in accordance with § 61.40 | § 65.55(b) and (c) | Section 1. Applicability, paragraph (c).
Excepts eligible persons from the requirement that a certificated mechanic must pass the required tests within a period of 24 months | § 65.71(b) | Section 1. Applicability, paragraph (c).
Adds language to allow eligible persons to take a practical test for a mechanic certificate or rating under part 65 with an expired written test report in accordance with § 61.40 | § 65.75(d) | Section 1. Applicability, paragraph (c).
Adds an exception to the inspection authorization renewal requirements to allow eligible persons to renew expired inspection authorizations under part 65 in accordance with § 61.40 | § 65.93(a) and (d) | Section 1. Applicability, paragraph (c).

The FAA recognizes that its proposed relocation and codification of SFAR No. 100-2 may not be the best approach because part 61 does not apply to persons taking practical tests under parts 63 or 65 or to a person renewing an authorization inspection under § 65.93. The FAA proposes to include the substantive requirements of current SFAR No. 100-2 in § 61.40 and then cross-reference those requirements in parts 63 and 65 because current SFAR No. 100-2 is located in part 61. Parts 63 and 65 currently contain editorial notes leading persons to the relief provided in SFAR No. 100-2 under part 61.

The FAA considered an alternative approach to codify the relief currently provided by SFAR No. 100-2 under parts 61, 63, and 65. More specifically, parts 61, 63, and 65 would each contain a new section that would codify the relief currently provided by SFAR No. 100-2 appropriate to the persons regulated under the respective part. For example, § 61.40 would allow persons to renew an expired flight instructor certificate, establish recent flight instructor experience, and take practical tests for airmen certificates under part 61, provided the eligibility and documentation requirements are satisfied. Part 63 would contain a new section that would allow a person to take a practical test under part 63 with an expired written test report, provided the eligibility and documentation requirements are satisfied. Lastly, part 65 would contain a new section that would allow a person to renew an expired inspection authorization under § 65.93 or take a practical test under part 65 with an expired written test report, provided the eligibility and documentation requirements are satisfied. While the FAA considered this approach, the FAA has determined that the proposal integrates the relief set forth in SFAR 100-2 into the permanent regulations in the most effective and streamlined manner.

C. Instructor Qualifications for Training Initial Flight Instructor Applicants

Section 61.195(h) contains the qualifications for flight instructors seeking to instruct initial flight instructor applicants. Currently, under § 61.195(h)(2), to provide flight training to an initial flight instructor applicant under part 61, the flight instructor must, in addition to other requirements,⁴⁶ have held a flight instructor certificate for at least 24 months and have given at least 200 hours of flight training as a flight instructor for an airplane, rotorcraft, or powered-lift rating (or 80 hours in the case of glider instruction). A person serving as a flight instructor in an FAA-approved course for initial flight instructor applicants has the option of meeting either the aforementioned requirements or the requirements of § 61.195(h)(3). Currently, § 61.195(h)(3) allows a person to serve as a flight instructor in an FAA-approved course for initial flight instructor applicants if that person has trained and endorsed at least five applicants for a practical test,⁴⁷ at least 80 percent of those applicants passed the practical test on their first attempt, and the flight instructor has given at least 400 hours of flight training for training in an airplane, rotorcraft, or powered lift rating (or 100 hours of flight training for training in a glider rating).

⁴⁶ The additional requirements include satisfying the requirements prescribed in § 61.183 and holding the appropriate flight instructor certificate and rating. 14 CFR 61.195(h)(2)(i) and (ii).

⁴⁷ The practical test must be for a pilot certificate, flight instructor certificate, ground instructor certificate, or an additional rating. 14 CFR 61.195(h)(3)(ii).

The FAA initially adopted the 24-month experience requirement in 1973.⁴⁸ In the NPRM that published on March 23, 1972, the FAA proposed to require an applicant for a flight instructor certificate to receive training from either a person holding a gold seal flight instructor certificate or a person who has held a flight instructor certificate for 24 months and who has given at least 200 hours of flight instruction (or 80 hours in the case of glider instruction).⁴⁹ In proposing these experience requirements, the FAA explained that these qualifications were comparable to having a gold seal flight instructor certificate.⁵⁰ However, in the 1973 final rule, the FAA withdrew the proposal to establish a gold seal flight instructor certificate in the regulations.⁵¹ In that final rule, the FAA adopted § 61.187, which required an applicant for a flight instructor certificate to receive training from a flight instructor who has held a flight instructor certificate for 24 months and who has given at least 200 hours of flight instruction (or 80 hours in the case of glider instruction).⁵²

⁴⁸ Final Rule, Pilot and Flight Instructor Certificates and Ratings and Check Requirements for Pilots-in-Command, 38 FR 3156 (Feb. 1, 1973).

⁴⁹ NPRM, Certification: Pilots and Flight Instructors, 37 FR 6012, 6015 (Mar. 23, 1972).

⁵⁰ 37 FR at 6015.

⁵¹ 38 FR at 3160. The majority of commenters were opposed to establishing a gold seal flight instructor certificate. They explained, among other things, that there should be no distinction between instructors and that flight instructors should either be qualified or they should not be certificated as flight instructors.

⁵² 38 FR at 3177.

In 1997, the FAA adopted a final rule that relocated the qualifications for flight instructors seeking to train initial flight instructor applicants from § 61.187 to § 61.195(h).⁵³ The 1997 final rule added qualification requirements for ground instructors in § 61.195(h)(1), placed the existing 24 month experience and requisite flight hour requirements in § 61.195(h)(2), and added a new qualification option in § 61.195(h)(3) for flight instructors serving in an FAA-approved course. The alternative qualifications of § 61.195(h)(3) required a flight instructor to have trained and endorsed at least five persons for a pilot certificate or rating practical test; have a record reflecting that at least 80 percent of those persons passed that practical test on their first attempt; and have given a minimum amount of flight training. In the case of airplanes, the minimum amount of flight training given must have been 400 hours; in the case of gliders, the minimum amount of flight training given must have been 100 hours. The FAA intended for § 61.195(h)(3) to allow persons who held a flight instructor certificate for less than 24 months to give training to flight instructor candidates.⁵⁴ The FAA explained that some full-time flight instructors may meet the 400-hour requirement before accumulating 24 months of training experience, and such instructors should be allowed to train flight instructor candidates within the structure of an approved training program. The FAA determined that the alternative qualifications of § 61.195(h)(3) provided at least an equivalent level of safety to the 24 month experience and minimum flight time requirements.

⁵³ Final Rule, Pilot, Flight Instructor, Ground Instructor, and Pilot School Certification Rules, 62 FR 16220, 16275 (Apr. 4, 1997).

⁵⁴ NPRM, Pilot, Flight Instructor, Ground Instructor, and Pilot School Certification Rules, 60 FR 41160, 41183 (Aug. 11, 1995).

On April 20, 2017, the FAA assigned the Aviation Rulemaking Advisory Committee (ARAC) the task to evaluate the FAA's regulations in 14 CFR to determine any and all regulations that should be repealed, replaced, or modified and to provide feedback on the regulatory actions identified in the FAA's regulatory agenda.⁵⁵ The ARAC submitted its Addendum Recommendation Report to the FAA on September 12, 2017.⁵⁶ As part of this report, the ARAC recommended the FAA modify § 61.195(h)(2)(iii) because the current requirement that the flight instructor must have held their flight instructor certificate for at least 24 months is outdated, unnecessary, ineffective, and inhibits job creation. The ARAC recommended the FAA revise § 61.195(h)(2)(iii) by adding the option for a flight instructor to complete an FAA-approved standardization course at a part 141 pilot school that provides instruction on the intricacies of training a flight instructor applicant. The FAA notes that the ARAC's primary rationale for changing the requirement was based on the shortage of flight instructors qualified to instruct initial flight instructor applicants.⁵⁷ The ARAC explained that the flight instructor profession is a transient position for the vast majority of pilots on their way to fly jets professionally and the turnover is approaching 90% annually.

⁵⁵ Notice of a new task assignment for the Aviation Rulemaking Advisory Committee (ARAC), Aviation Rulemaking Advisory Committee (ARAC)—ARAC Input To Support Regulatory Reform of Aviation Regulations—New Task, 82 FR 19783 (Apr. 28, 2017).

⁵⁶ ARAC Input to Support Regulatory Reform of Aviation Regulations—ARAC Addendum Report (Sept. 12, 2017).

⁵⁷ The FAA notes that the ARAC's recommendations are economic-based. The FAA does not have the statutory authority to prescribe economic regulations. See The Federal Aviation Act of 1958, 72 Stat. 731 (establishing the FAA and giving it the authority to regulate safety); The Civil Aeronautics Board Sunset Act of 1984, 98 Stat. 1703 (transferring economic authority from the Civil Aeronautics Board to the Secretary of Transportation).

The National Air Disaster Foundation (NADF) and the Air Line Pilots Association International (ALPA) submitted dissenting opinions, strongly opposing the ARAC recommendation to eliminate the existing regulation that requires at least 24 months of flight instructor experience. The NADF explained that flight instructors must be experienced and should not be students teaching and supervising other students. ALPA stressed that the ARAC's proposal is based upon an economic basis and makes no mention of what safety impacts were considered. ALPA stated that the 24-month experience requirement is a time-proven regulation that helps ensure flight instructor candidates are taught how to instruct others only by pilots who have a level of experience and competence serving as flight instructors themselves. ALPA believed the 24-month experience requirement leads to experience, knowledge, professionalism, expertise, and skill that make an individual a better instructor. In addition, ALPA stated that any real or perceived shortage of instructors is an inappropriate justification for reducing instructor qualifications and reduces the quality of training and, ultimately, safety.

The FAA recognizes that the current 24-month experience requirement may lead some flight instructors to gain the experience, knowledge, and skill necessary to instruct initial flight instructor candidates during that 24-month timeframe. However, the FAA finds that the 24-month experience requirement is limiting because it does not account for persons who may have achieved the level of proficiency required to instruct initial flight instructor applicants prior to those 24 months. For example, before accumulating 24 months of experience, some full-time flight instructors may have provided an extensive amount of flight training that exceeds the 200-hour flight time requirement, established a successful record of training as demonstrated by the passage rate on practical tests by those applicants the instructor has trained, and obtained more experience than part-time instructors who have held their certificate for 24 months. The FAA has determined there are alternative methods to assess whether a flight instructor is qualified to instruct initial flight instructor applicants.

Accordingly, the FAA proposes adding two new qualification options for persons seeking to instruct initial flight instructor applicants. The first option would allow flight instructors to satisfy the qualification requirements by training and endorsing, during the preceding 24 calendar months, at least five applicants for a practical test, with at least 80 percent passing the practical test on their first attempt. The second option would allow flight instructors to attain qualification by successfully completing an FAA-approved flight instructor enhanced qualification training program (FIEQTP) after giving a requisite amount of flight training to pilot applicants. The following sections discuss the proposed qualification requirements and the proposed curriculum requirements for an approved FIEQTP.

1. Flight Instructor Qualifications (§ 61.195(h)(2))

Currently, § 61.195(h)(2) contains the qualification requirements for persons instructing initial flight instructor applicants under part 61, and § 61.195(h)(3) contains the qualification requirements for persons serving as flight instructors under FAA-approved courses. The FAA finds it is unnecessary to make the qualification requirements dependent on whether the flight instructor provides training under part 61, 141, or 142. Flight instructors are either qualified to instruct initial flight instructor applicants or they are not, regardless of which 14 CFR part they are instructing under. Therefore, unlike the current qualification requirements,⁵⁸ the FAA proposes to apply the same qualification requirements to all flight instructors. As a result, the FAA proposes to restructure current § 61.195(h). Proposed § 61.195(h)(1) would contain the qualifications for persons providing ground training.⁵⁹ Proposed § 61.195(h)(2) would contain the qualifications for persons providing flight training, including persons serving as flight instructors under FAA-approved courses. In addition, as discussed in more detail below, proposed § 61.195(h)(3) would contain the requirements for an FAA-approved FIEQTP.

⁵⁸ Currently, § 61.195(h)(3) contains qualification requirements only for persons serving as flight instructors in FAA-approved courses under parts 141 or 142.

⁵⁹ Subpart I prescribes the requirements for the issuance of ground instructor certificates and ratings, the conditions under which those certificates and ratings are necessary, and the limitations upon such certificates and ratings; however, proposed § 61.195(h)(1) prescribes qualifications for persons providing ground training, one option of which is to hold a ground instructor certificate, subject to certain experience requirements. The FAA finds that a conforming amendment to new § 61.215(e) would aid ground instructors in understanding the requirements needed to provide ground training to initial flight instructor applicants, given proposed § 61.195(h)(1) is situated in Subpart H, Flight Instructors Other than Flight Instructors With a Sport Pilot Rating. This is simply a clarifying amendment to subpart H and does not add additional requirements.

Consistent with the current regulations, § 61.195(h)(2) would require a flight instructor who provides flight training to an initial applicant for a flight instructor certificate to meet the eligibility requirements of § 61.183 and hold the appropriate flight instructor certificate and rating. The FAA also proposes to require the flight instructor to meet the requirements of the part under which the flight training is conducted. The FAA notes that flight instructors are already required to comply with the requirements of the part under which they are providing flight training. However, because § 61.195(h)(2) would apply to persons serving as flight instructors under parts 61, 141, and 142, including such language in the regulation would add clarity. In addition to meeting these qualifications, a flight instructor would be required to meet one of the qualification options prescribed in § 61.195(h)(2)(i) through (iii).

The first qualification option, in proposed § 61.195(h)(2)(i), would contain the requirements that currently exist in § 61.195(h)(2). Thus, under § 61.195(h)(2)(i), a flight instructor would be qualified to instruct an initial flight instructor applicant if that flight instructor has held their flight instructor certificate for at least 24 calendar months and has given at least 200 hours of flight training as a flight instructor (or 80 hours in the case of glider instruction). The FAA proposes to specify “calendar” months for clarity and consistency with the requirement that a ground instructor has held their certificate for at least 24 calendar months in current and retained § 61.195(h)(1)(i).

The FAA recognizes industry's concerns about these requirements. As previously mentioned, the ARAC believed the experience requirements are ineffective and outdated; however, dissenting opinions emphasized the importance of having experienced flight instructors train initial flight instructor applicants. Furthermore, in the 1997 final rule, AOPA and National Association of Flight Instructors (NAFI) opposed the existing requirement that a pilot be a flight instructor for at least 24 months before qualifying to teach an initial flight instructor applicant.⁶⁰ These commenters stated that a minimum amount of instructional experience requirement may be appropriate, but the FAA had failed to prove the need for the specified 200 hours or 24 months of experience required. The FAA acknowledged these comments but explained that they were out of scope because the FAA did not propose changes to the provisions in the existing rule. In this NPRM, the FAA proposes to add alternatives to the 24-calendar-month experience requirement.

⁶⁰ 62 FR at 16275.

The second qualification option, in proposed § 61.195(h)(2)(ii), would contain the first proposed alternative to the fixed 24 calendar month experience requirement discussed above. Under proposed § 61.195(h)(2)(ii), a flight instructor would be qualified to instruct an initial flight instructor applicant if that flight instructor has trained and endorsed, during the preceding 24 calendar months, at least five applicants for a practical test and at least 80 percent of those applicants passed that test on their first attempt. The FAA recognizes that this option is currently available to persons serving as flight instructors under FAA-approved courses, provided they have also given at least 400 hours of flight training as a flight instructor (or 100 hours in the case of glider instruction).⁶¹ Under this proposal, however, the FAA finds it unnecessary to require flight instructors to have given a certain amount of flight training in addition to meeting the standard described above. The FAA finds that any flight instructor who has trained and endorsed at least five applicants for a practical test will have given an extensive amount of flight training that surpasses the 200-hour requirement (or 80 hours in the case of glider instruction), which the FAA proposes to require in the other qualification options. Furthermore, the FAA concludes that the proposed standard of training at least five applicants for a practical test and having at least 80 percent of those applicants pass on their first attempt would more adequately measure a flight instructor's proficiency and instructional ability. For example, rather than holding a flight instructor certificate for 24 calendar months, a flight instructor would be required to have a demonstrated record of success training flight students, which could be attained in the same or less time (i.e., 24 calendar months). Additionally, that flight instructor will have attained sufficient experience by providing flight training to at least five applicants ⁶² for a practical test. The FAA notes that all applicants that the flight instructor has trained and endorsed in that time period will be counted for the purposes of calculating the pass rate.⁶³

⁶¹ 14 CFR 61.195(h)(3).

⁶² It is beneficial for a flight instructor to be exposed to an array of different applicant's' learning styles and abilities; therefore, it is understood that the five applicants are five discrete applicants.

⁶³ As an example, suppose a flight instructor began instructing 18 months ago, and the flight instructor instructed and endorsed a total of 8 applicants. All 8 applicants' performance on the practical test would be calculated into the flight instructor's pass rate. A flight instructor cannot simply choose 5 applicants who passed out of all applicants instructed and endorsed to calculate in the flight instructor's pass rate.

The third qualification option, in proposed § 61.195(h)(2)(iii), would contain the second proposed alternative to the 24 calendar month experience requirement. Under this qualification option, a flight instructor may qualify to instruct initial flight instructor applicants if the flight instructor has given at least 200 hours of flight training as a flight instructor (or 80 hours in the case of glider instruction) and has graduated from an FAA-approved FIEQTP conducted under parts 141 or 142.

Prior to taking the FIEQTP, the flight instructor would be required to have given at least 200 hours of flight training in an airplane, rotorcraft, or powered-lift (80 hours if training in a glider). The FAA finds it necessary to require flight instructors to have given a minimum amount of flight training to ensure the flight instructor has obtained a sufficient amount of experience flight instructing. For example, a new flight instructor with no experience would gain little value from taking only the approved FIEQTP as the new flight instructor would have no real world experience to inform the training. Furthermore, the FAA finds that flight instructors who have given at least 200 hours of flight training as a flight instructor before taking the FIEQTP would have established a teaching foundation that would reinforce and contribute to the positive transfer of knowledge and skills associated with the course. Therefore, before taking the FIEQTP, the new flight instructor must have acquired hands-on experience during which the new flight instructor served as a flight instructor in the aircraft. The experience obtained from providing 200 hours of flight training (or 80 hours in the case of glider instruction) and the knowledge and skills acquired from completing the FIEQTP would, together, prepare and qualify the flight instructor to instruct initial flight instructor applicants.

The FAA-approved FIEQTP would be required to satisfy the requirements proposed in § 61.195(h)(3), which are discussed below. This proposed training program would be focused on developing a flight instructor's ability to instruct initial flight instructor applicants. The FAA notes that a person who completes this course would be required to hold a flight instructor certificate. Therefore, persons who take this course will have already obtained the training and aeronautical experience required for and will have already passed the flight instructor practical test. The FIEQTP is not intended to simply repeat the foundational training a person receives in preparation for the flight instructor practical test. The FAA notes that when a person is training in preparation for the flight instructor practical test, that person is learning how to teach other pilots how to fly. The intent of the FIEQTP is to train persons who already hold their flight instructor certificate how to teach other pilots how to provide instruction. Therefore, the FIEQTP would be designed to enhance the flight instructor's instructional ability and to prepare that flight instructor on how to instruct initial flight instructor applicants how to flight instruct, not simply how to fly. The specific requirements for the training program are discussed in the next section.

The FAA notes that a flight instructor who chooses to meet the qualification method in either § 61.195(h)(2)(i) or (iii) is required to have given at least 200 hours of flight training if training for an airplane, helicopter, or powered-lift rating and at least 80 hours of flight training if training for a glider rating. The FAA recognizes that flight instructors may hold multiple category and/or class ratings on their flight instructor certificates. The provisions in proposed § 61.195(h)(2)(i)(A) and (B), which require a flight instructor to have given at least 200 hours of flight training and 80 hours of flight training, respectively, currently exist in § 61.195(h)(2)(iv) and (v). The current provisions, and thus the proposed provisions, do not expressly require the flight training to have been given in a specific category and/or class of aircraft.⁶⁴ Instead, the 200-hour and 80-hour requirements are based on experience given as a flight instructor regardless of the category or class of aircraft in which the training was provided. Therefore, a flight instructor with multiple category and/or class ratings on their flight instructor certificate may use the total hours of flight training given as a flight instructor to meet the 200-hour requirement in proposed § 61.195(h)(2)(i)(A) and the 80-hour requirement in proposed § 61.195(h)(2)(i)(B).

⁶⁴ The FAA notes that many of the FAA's regulations are category and class specific. If the FAA intended for the flight instruction given pursuant to § 61.195(h)(2)(iv) and (v) to be category and class specific, the FAA would have expressly required that.

2. Flight Instructor Enhanced Qualification Training Program (§ 61.195(h)(3); § 141.11; Part 141, Appendix K)

As previously mentioned, the FAA proposes a new training program intended to develop a flight instructor's ability to instruct initial flight instructor applicants. The FIEQTP would be a standalone course, which would be submitted to the FAA for review to ensure standardization and FAA approval.

The FAA proposes to allow pilot schools and training centers certificated under parts 141 and 142, respectively, to conduct FIEQTP. Part 141 pilot schools (including part 141 provisional pilot schools) and part 142 training centers have the structure, systems, and management personnel required to develop, implement, and maintain FAA-approved training programs. This structure does not typically exist and is not required in part 61 training. Furthermore, because the FAA certificates part 141 pilot schools and part 142 training centers, the FAA has more oversight of the program. Greater oversight provides opportunities to observe the effectiveness of an approved training program and to require amendments to the training program, as needed, to ensure it achieves the course objectives.

Proposed § 61.195(h)(3) would require the proposed training program to meet specific ground and flight training requirements.⁶⁵ The FAA proposes to require at least 25 hours of ground instruction on specific subjects, which are outlined in § 61.195(h)(3)(i)(A) through (D). The proposed subjects are intended to reinforce the areas critical to flight instruction while focusing specifically on how to teach these subjects to initial flight instructor applicants. For example, a flight instructor would receive ground instruction on flight instructor responsibilities, functions, lesson planning, and risk management. The FAA recognizes that flight instructors will have already received ground instruction on these topics while training in preparation for the flight instructor practical test. However, the FAA notes that the training in preparation for the flight instructor practical test is focused on training pilots, not on training initial flight instructor applicants. As a result, new flight instructors have not received specialized training that prepares them to instruct initial flight instructor applicants. The FIEQTP should reinforce the subject areas specified in § 61.195(h)(3)(i) to ensure a broader knowledge and understanding of the concepts, which would develop the new flight instructor's knowledge, skill, and ability to teach the concepts to another person. Specifically, the approved course would teach the instructor how to instruct an initial flight instructor applicant on these subjects. Furthermore, the flight instructor would learn enhanced methods, procedures, and techniques that the flight instructor can use when instructing an initial flight instructor applicant, including methods to detect deficient knowledge, training, and performance. At the conclusion of the ground training, each flight instructor would be required to satisfactorily complete an end-of-course written test on the ground training subjects in § 61.195(h)(3)(i). The end-of-course written test, proposed in new § 61.195(h)(3)(iii), is intended to evaluate the flight instructor's knowledge and understanding of the subject areas to determine whether that flight instructor is deemed qualified to provide ground instruction to initial flight instructor applicants.

⁶⁵ Training provider applicants should focus their program on a particular aircraft category rating (e.g., flight instructor airplane, rotorcraft, or glider). Enrollees should seek the appropriate FIEQTP that corresponds to the aircraft category rating held on their flight instructor certificate. Enrollees who hold more than one aircraft category and class, if a class is required, on their flight instructor certificate need only satisfy one FIEQTP course for one of the aircraft category and class ratings held on that person's flight instructor certificate.

With respect to flight training, the FIEQTP would be required to include at least 10 hours of flight training on the specific areas, which are outlined in § 61.195(h)(3)(ii)(A) through (E). The proposed flight training is intended to focus on developing the knowledge, skills, and ability necessary to train someone on how to provide flight training to an initial flight instructor applicant. For example, among these proposed tasks, the FAA would require the flight training to include scenario-based training to develop the flight instructor's ability to instruct an initial flight instructor applicant how to satisfactorily perform the procedures and maneuvers while giving effective flight training. The proposed flight training would also ensure the flight instructor has sufficient instructional knowledge and proficiency to teach an initial flight instructor applicant about abnormal and emergency procedures. For flight training conducted in airplanes, these procedures would include stall awareness, spin entry, spins, and spin recovery procedures.

However, the FAA recognizes that flight training in other aircraft, such as helicopters and powered-lift, would include flight training in abnormal and emergency procedures specific to the category, class, and type, if class or type is applicable, of aircraft being flown. The FAA also finds it necessary to include flight training specific to risk management and the potential results of improper, untimely, or non-execution of safety measures. The FAA finds that a sufficient understanding of these areas, including how to detect improper and insufficient transfer of instructional knowledge, training, and performance, is critical to flight training. The flight training would also train flight instructors how to evaluate initial flight instructor applicants to detect areas in which the flight instructor applicant needs more training and to detect any personal characteristics of the initial flight instructor applicant that could adversely affect safety. At the conclusion of the flight training, each flight instructor would be required to satisfactorily complete an end-of-course instructional proficiency flight test on the flight areas in § 61.195(h)(3)(ii). Similar to the end-of-course written test, the proficiency test, which is also proposed in new § 61.195(h)(3)(iii), is intended to evaluate whether the flight instructor has acquired the necessary skills to provide flight training to initial flight instructor applicants.

The proposed ground subjects and flight tasks outlined in § 61.195(h)(3)(i) and (ii) are intended to be broad areas of instruction to give the FAA and industry flexibility in the development of an approved FIEQTP. The FAA proposes to publish an advisory circular to accompany the ground and flight training requirements of § 61.195(h)(3). This proposed advisory circular would provide guidance to part 141 pilot schools and part 142 training centers to assist these certificated entities in developing approved training programs that satisfy the requirements of § 61.195(h)(3). A copy of this proposed advisory circular has been placed in the docket for this rulemaking.

The FAA finds that requiring the training program to include 25 hours of ground training and 10 hours of flight training would ensure standardization among the training programs. It would also ensure that each student receives the necessary amount of training and experience in the subjects and tasks that are critical to flight instructing initial flight instructor applicants. The FAA has determined it would take 25 hours of ground instruction for a flight instructor to acquire a sufficient understanding of the subject areas specified in § 61.195(h)(3)(i). Similarly, the FAA has determined it would take 10 hours of flight training on the tasks identified in § 61.195(h)(3)(ii) for a flight instructor to develop the skills and knowledge necessary to instruct an initial flight instructor applicant.

The FAA proposes to add § 61.195(h)(3)(iv) to allow the flight training to be completed in either a full flight simulator (FFS) or flight training device (FTD). Consistent with the current requirements of §§ 61.4, 141.41, and 142.59, proposed § 61.195(h)(3)(iv) would require the FFS or FTD to be qualified and maintained in accordance with part 60 (or be a previously qualified device) ⁶⁶ and be approved for the tasks and maneuvers. The FAA notes that the pilot schools and training centers certificated under parts 141 and 142, respectively, would also be required to comply with any additional FFS or FTD requirements contained in the part under which the FAA-approved course is conducted.⁶⁷ The proposal would allow the entirety of flight training specified in § 61.195(h)(3)(ii) to be conducted in an FSTD because FSTDs are evaluated and qualified to meet standards of fidelity to the actual performance of an aircraft.

⁶⁶ The requirements for previously qualified FSTDs are contained in 14 CFR 60.17.

⁶⁷ See 14 CFR 141.41 and 142.59.

In addition, the FAA proposes to add § 61.195(h)(3)(v) to allow a person to use up to 5 hours of training received in an advanced aviation training device (AATD) to meet the flight training requirements of § 61.195(h)(3)(ii) for part 141 schools.⁶⁸ Aviation training devices (ATDs) consist of basic aviation training devices (BATDs) and AATDs.⁶⁹ The flight training specified in § 61.195(h)(3)(ii) should be conducted in a realistic aircraft flight deck. The design features of the AATD provide a more adequate training platform for both procedural and operational performance tasks specific to the FIEQTP flight training requirements than those of a BATD flight deck layout. The FAA is, therefore, proposing to allow a person to credit a portion of the flight training specified in § 61.195(h)(3)(ii) in an AATD, which utilizes enhanced aircraft flight deck design, ergonomic features, and performance characteristics beyond those of the BATD. The proposal would limit the amount of flight training in an AATD to a maximum of 5 hours because, unlike FSTDs, the FAA does not evaluate and qualify AATDs to meet standards of fidelity to the actual performance of an aircraft. Proposed § 61.195(h)(3)(v) would require the AATD to be approved by the Administrator pursuant to § 61.4(c), which will be designated by the AATD's letter of authorization, including any conditions and limitations of such. In addition, the pilot schools certificated under part 141 would be required to use the AATD in accordance with the requirements in part 141.

⁶⁸ Part 142 does not currently contemplate the use of ATDs in training centers. See § 142.59.

⁶⁹ See AC 61-136, as revised, “FAA Approval of Aviation Training Devices and Their Uses for Training and Experience” (providing information and guidance for ATD manufacturers seeking FAA approval of AATDs and BATDs and for persons seeking to use a BATD or AATD for certain activities involving pilot training and experience).

Instructors who teach initial flight instructor applicants are required to attain a higher level of qualification to do so. Likewise, those individuals teaching the FIEQTP should be qualified at a higher level than the minimum qualifications required to be an instructor for a part 141 pilot school or part 142 training center. Therefore, the FAA proposes three qualification groups to be eligible to be an instructor of the FIEQTP, proposed in new § 61.195(h)(3)(vi). The first two include serving as a chief instructor or assistant chief instructor in a part 141 pilot school or serving as a training center program manager or assistant training center program manager of a part 142 training center. Additionally, the FAA recognizes that a flight instructor may hold the qualifications to be a chief instructor and/or assistant chief instructor but may not hold the title for reasons unrelated to their instruction abilities. Therefore, the FAA proposes to permit those instructors who meet at least the qualifications of an assistant chief instructor, pursuant to § 141.36(d), to teach the course.

Finally, the FAA is proposing § 61.195(h)(3)(vii) to require part 141 pilot schools or part 142 training centers to issue a graduation certificate to each flight instructor who successfully completes the FIEQTP. The FAA notes that the requirement to issue a graduation certificate to each student who completes an approved course of training already exists in § 141.95 for part 141 pilot schools. However, a corresponding requirement does not exist in part 142. Therefore, the FAA seeks to ensure all flight instructor applicants who successfully complete the FIEQTP receive a graduation certificate to show eligibility to instruct initial flight instructor applicants, regardless of whether the program is conducted under part 141 or part 142.

To allow part 141 pilot schools to provide the FIEQTP, the FAA proposes to revise § 141.11 by adding the training program to the list of special preparation courses in § 141.11(b)(2). The FAA also proposes to add the new training program to appendix K of part 141, which prescribes the minimum curriculum for the special preparation courses listed in § 141.11.

During the course of this rulemaking, the FAA identified an unintentional omission that it proposes to correct in § 141.11. Specifically, in 2011 ⁷⁰ the FAA added appendix M to part 141, which prescribes the minimum curriculum for a combined private pilot certification and instrument rating course required under this part for airplane single-engine, airplane multiengine, rotorcraft helicopter, and powered-lift ratings. However, while appendix M was adopted into part 141, the course was not added to the list of pilot school ratings that may be issued to an applicant for a pilot school certificate or provisional pilot school certificate in § 141.11. Therefore, the FAA proposes to correct this omission by adding new § 141.11(b)(4). This is simply a correctional amendment to part 141 and does not add additional requirements upon pilot schools or provisional pilot schools.

⁷⁰ Final Rule, Pilot in Command Proficiency Check and Other Changes to the Pilot and Pilot School Certification Rules, Aug. 31, 2009 (74 FR 44779).

Appendix K of part 141 contains limitations for special preparation courses utilizing FFSs and FTDs that are more restrictive than § 61.195(h)(3)(iv) and (v) permit. Specifically, paragraph 4.(b) of appendix K provides that an FFS may only be credited for a maximum of 10% of the total flight training hour requirements of the approved course, and paragraph 4.(c) provides that an FTD may be credited for a maximum of 5 percent of the total flight training hour requirements of the approved course. However, proposed § 61.195(h)(3)(iv) permits all flight training hours to occur in an FFS and 5 hours of flight training to occur in an FTD. Therefore, to eliminate the conflict between the provisions, paragraph 4.(b) is revised to except the FIEQTP from the FFS credit limitations of appendix K, and paragraph 4.(c) is revised to except the FIEQTP from the FTD credit limitations of appendix K.

Additionally, part 141 prescribes the circumstances under which ATDs may be utilized for flight training credit. However, appendix K of part 141 only contemplates the use of an FFS and an FTD for special preparation flight training, not an ATD. Because an AATD

may be used in flight training for FIEQTPs, the FAA proposes to revise appendix K, paragraph 4. Specifically, paragraph 4.(a) would include a provision that only permits an FIEQTP to utilize AATDs in accordance with appendix K, paragraph 14, and § 61.195(h)(3)(v). The FAA emphasizes that this allowance of flight training in ATDs will not be expanded to other appendix K special preparation courses in this proposal.

The FAA notes that no change is needed to allow part 142 training centers to provide the FIEQTP because the applicability provision in part 142 permits part 142 training centers to provide training required by 14 CFR part 61. The FAA recognizes that part 142 training centers generally provide training under part 61 for pilots seeking type ratings in specific turbine and heavy turbine aircraft and training for pilots serving part 119 certificate holders as part of commercial operator and air carrier training programs. Unlike part 141 pilot schools that conduct flight training in light aircraft, part 142 training centers largely conduct flight training on the ground in FFSs and FTDs qualified under part 60.

Because no change is needed to allow part 142 training centers to provide the FIEQTP, the FAA included part 142 training centers in this proposed provision. Additionally, inclusion of part 142 training centers in this provision provides greater regulatory flexibility. The FAA notes, however, that although instructors at part 142 training centers may hold part 61 flight instructor certificates, they are not necessary for training provided at a part 142 training center. Rather, instructors at training centers must meet the training requirements specific to part 142.

IV. Regulatory Notices and Analyses

Federal agencies consider impacts of regulatory actions under a variety of executive orders and other requirements. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more (adjusted annually for inflation) in any one year. The current threshold after adjustment for inflation is $165,000,000, using the most current (2021) Implicit Price Deflator for the Gross Domestic Product. This portion of the preamble summarizes the FAA's analysis of the economic impacts of this NPRM.

In conducting these analyses, the FAA has determined that this NPRM: will result in benefits that justify costs; is not an economically “significant regulatory action” as defined in section 3(f) of Executive Order 12866; will not have a significant economic impact on a substantial number of small entities; will not create unnecessary obstacles to the foreign commerce of the United States; and will not impose an unfunded mandate on State, local, or tribal governments, or on the private sector. These analyses are summarized below.

A. Regulatory Evaluation

The FAA proposes to amend part 61 of title 14 of the Code of Federal Regulations by (1) removing the expiration date on the flight instructor certificate; (2) allowing flight instructors whose recent experience has lapsed by no more than three calendar months to reinstate their flight instructor privileges by taking a FIRC; (3) identifying an FAA-sponsored pilot proficiency program (e.g., WINGS—FAA Pilot Proficiency Program) as an additional method for a flight instructor to meet recent experience requirements; (4) revising the qualifications for flight instructors seeking to train initial flight instructor applicants under 14 CFR 61.195(h)(2), and (5) codifying SFAR No. 100-2.

1. Removing the Expiration Date on the Flight Instructor Certificate

Currently, a flight instructor certificate expires 24 calendar months from the month in which the FAA issued, renewed, or reinstated that certificate. The FAA is proposing to remove the expiration date from the flight instructor certificate, which would eliminate the need to renew that certificate prior to its expiration date by passing a practical test or by submitting a completed and signed application with the FAA and satisfactorily completing one of the currently enumerated renewal requirements. Under this proposal, these current renewal requirements would become recent experience requirements. Consequently, the FAA would no longer have to create a new physical flight instructor certificate upon each applicant's recent experience cycle after that person receives their permanent certificate without an expiration date.

To estimate the cost savings associated with removing the expiration date from flight instructor certificates, the FAA begins with estimating the baseline number of certificates and associated costs avoided. The FAA estimates that from 2013 to 2021 the number of initial flight instructor certificates grew from 2,348 to 6,199 (i.e., the average annual growth rate from 2013 to 2021 was 12.90 percent). Using this 12.90 percent annual growth rate, the FAA forecasts the initial flight instructor certificates over the next five years. Similarly, the FAA estimates that from 2013 to 2021, the number of flight instructor certificate renewals grew from 41,467 to 54,189 (i.e., the average annual growth rate from 2013 to 2021 was 3.40 percent). Using this 3.40 percent annual growth rate, the FAA forecasts the flight instructor certificate renewals over the next five years.

The FAA determined the cost of issuing the physical flight instructor certificates by estimating the mean labor cost for the applicants that complete and submit FAA Form 8710 applications.⁷¹ The FAA finds that the variety of people with various pay levels that work on issuing flight instructor certificates are classified using the May 2021 North American Industry Classification System under NAICS code ⁷² 481200, “Nonscheduled Air transportation.” ⁷³ Therefore, the FAA starts with a base hourly wage of $44.27 that is assumed to be representative of pilots and representative occupations. The FAA then applies the appropriate multipliers for overhead (this includes health benefits, vacation, sick time, etc.). More specifically, the FAA increases the base hourly rate by 42.25%, which is based on the percent of total compensation for transportation employees,⁷⁴ resulting in a fully burdened wage rate of approximately $62.97/hour. The time to produce each flight instructor certificate is estimated at 0.1 hours.⁷⁵

⁷¹ This includes FAA Form 8710-1, Airman Certificate and/or Rating Application and Form FAA 8710-11, Airman Certificate and/or Rating application—Sport Pilot.

⁷² The NAICS code is the standard used by Federal statistical agencies in classifying business establishments for the purpose of collecting, analyzing, and publishing statistical data related to the U.S. business economy.

⁷³ U.S. Bureau of Labor Statistics, NAICS 481200—Nonscheduled Air Transportation. https://www.bls.gov/oes/current/naics4_481200.htm.

⁷⁴ Percent of total compensation = 29.7%. Source: Bureau of Labor Statistics News Release. Employer Costs for Employee Compensation—December 2020. Employer Costs for Employee Compensation Archived News Releases: U.S. Bureau of Labor Statistics (bls.gov).

⁷⁵ Source: https://www.reginfo.gov/public/do/PRAViewICR?ref_nbr=201809-2120-009.

Using the preceding information, the FAA estimates that during the first five years, the cost savings will be approximately $2.3 million or $1.9 million present value at a 7 percent discount rate, with annualized savings of $452 thousand. The results are presented in Table 1.

Table 1—Total Industry Cost Savings
Year | Initial flight instructor (forecast) | Flight instructor renewals (forecast) | Average wage per hour | Time to process each flight instructor (in hours) | Cost savings | Present value at 7%
1 | 7,902 | 57,938 | $62.97 | 0.1 | $414,594 | $387,471
2 | 8,921 | 59,909 | 62.97 | 0.1 | 433,423 | 378,568
3 | 10,072 | 61,946 | 62.97 | 0.1 | 453,497 | 370,189
4 | 11,372 | 64,053 | 62.97 | 0.1 | 474,951 | 362,338
5 | 12,839 | 66,232 | 62.97 | 0.1 | 497,910 | 355,003
1-5 | 51,106 | 310,078 |  |  | 2,274,376 | 1,853,569
Notes: (i) initial certificates forecast based on historic rate of 12.90 percent per year; (ii) Flight instructor renewal forecast based on historic rate of 3.40 percent per year; and (iii) estimates may not total due to rounding.

Using the initial flight instructor certificates forecast and the flight instructor certificate renewals forecast, the FAA estimates the costs savings to the Federal Government. The FAA determined the cost of issuing physical airman certificates by estimating the mean labor cost for clerks. The FAA estimates the salaries for the clerks based on the 2022 General Schedule Locality Pay Tables using the Rest of the United States locality pay multiplier. The FAA uses 36.25 percent to calculate the overhead benefits multiplier. The total salary, including overhead, is $84,508 ($40.49 per hour). The time to produce each flight instructor certificate is estimated at 0.1 hours.⁷⁶ Using this information, the FAA estimates that during the first five years, the FAA cost savings will be approximately $1.5 million or $1.2 million present value at a 7 percent discount rate, with annualized savings of $291 thousand. The results are presented in Table 2.

⁷⁶ Source: https://www.reginfo.gov/public/do/PRAViewICR?ref_nbr=201809-2120-009.

Table 2—Total FAA Cost Savings
Year | Initial flight instructor (forecast) | Flight instructor renewals (forecast) | Average wage per hour | Time to process each flight instructor (in hours) | Cost savings | Present value at 7%
1 | 7,902 | 57,938 | $40.49 | 0.1 | $266,586 | $249,146
2 | 8,921 | 59,909 | 40.49 | 0.1 | 278,693 | 243,421
3 | 10,072 | 61,946 | 40.49 | 0.1 | 291,601 | 238,033
4 | 11,372 | 64,053 | 40.49 | 0.1 | 305,396 | 232,985
5 | 12,839 | 66,232 | 40.49 | 0.1 | 320,158 | 228,269
1-5 | 51,106 | 310,078 |  |  | 1,462,434 | 1,191,854
Notes: (i) initial certificates forecast based on historic rate of 12.90 percent per year; (ii) Flight instructor renewal forecast based on historic rate of 3.40 percent per year; and (iii) estimates may not total due to rounding.

2. Flight Instructor Refresher Course

Allowing flight instructors whose recent experience has lapsed by no more than three calendar months to reinstate flight instructor privileges by taking a FIRC would result in cost savings for flight instructors. Under the current rule, flight instructor applicants typically incur the costs of taking a practical test. This expenditure generally includes the applicant's time for the test—which consists of the oral testing segment on the ground (about 2 hours) and the flight test segment (about 2-3 hours), the cost of a designated examiner to conduct the test,⁷⁷ and the aircraft operational or rental costs ⁷⁸ incurred while taking the test. Therefore, a practical test to reinstate a flight instructor certificate can cost anywhere from about $800 to thousands of dollars when a rental aircraft is used for the practical test. Conversely, the cost of an online FIRC may be provided free of charge or as much as $275 for a live classroom FIRC.⁷⁹

⁷⁷ According to the Airmen Certification and Training Branch of Flight Standards Service, this cost can range from about $500 to $1,000.

⁷⁸ One of the most popular aircraft, the Cessna 172 airplane, (four seat/single four-cylinder engine) rents from about $120/hour to $220/hour wet (with fuel and oil), depending on its age and equipment. Helicopters generally cost more to rent than comparable airplane sizes, e.g., a Robinson R22 (popular two seat four cylinder piston single engine) typically rents wet for upwards of $200/hour range. The R44 (popular four seat six cylinder single engine) rents wet for typically from $450 on up. For example, at JJ Helicopter Inc., rentals are $310/hour for a Robinson R22 helicopter and $530/hour for Robinson R44 helicopter. Additional cost may include the time and cost for the aircraft and flight instructor (the instructor's fee, typically $30-$60 per hour), and for an insurance checkout to meet insurance company requirements to rent the aircraft.

⁷⁹ AceCFI (https://www.acecfi.com/) and American Flyers (https://americanflyers.com/training/firc-for-life/) offer free online FIRCs after a $159.00 and $99.00, respectively, onetime payment. Thereafter, that flight instructor may renew their flight instructor certificate free-of-charge with that online provider once every two years for life.

To estimate the cost savings associated with taking a FIRC instead of a practical test, the FAA forecasts that on average 84 flight instructors would reinstate their flight instructor certificate within the first three month period from the expiration of their certificate by completing a FIRC.⁸⁰ The FAA determined the difference in cost between taking a practical test and taking a FIRC as $2,668.⁸¹ Therefore, the FAA estimates that during the first five years, the cost savings will be approximately $1.1 million or $0.9 million present value at a 7 percent discount rate, with annualized savings of $223 thousand. The results are presented in Table 3.

⁸⁰ Flight Instructors that reinstated their flight instructor certificate within the first three month period from the expiration of their certificate: 2019 = 92, 2020 = 79, 2021 = 80. Source: Federal Aviation Administration Airmen Certification Branch (AFB-720). Received data on January 06, 2023.

⁸¹ Difference in cost between taking a practical test and taking a FIRC = $2,805−$137.50 = $2,667.5

Average cost of taking a flight instructor reinstatement practical test: $2,805. Assumptions for the practical test:

• Airplane (CE-172), not Helicopter or other category aircraft.

• Airplane rental for training in preparation for the practical test = 6 hours × $170 = $1,020.

• Prep time for test with another CFI = 6 hours with a CFI = $45 average = $270 prep time.

• Airplane rental to and from test = 2 × $170 = $340.

• Airplane rental for the flight test (2−3 hours = 2.5 hour flight test)−Average cost wet @$170 = $425.

• Designated examiner fee to conduct the test average = $750.

Note: This example reflects the most common reinstatement by practical test. However, each individual has different circumstances.

Average cost for taking a FIRC = $137.5 (average of $0 to $275 = $137.50).

Table 3—Total Flight Instructor Refresher Course Cost Savings
Year | Flight instructors that will reinstate their flight instructor certificate within the first three month period from the expiration of their certificate (forecast) | Cost of practical test minus cost of FIRC | Cost savings | Present value at 7%
1 | 84 | $2,668 | $223,181 | $208,580
2 | 84 | 2,668 | 223,181 | 194,935
3 | 84 | 2,668 | 223,181 | 182,182
4 | 84 | 2,668 | 223,181 | 170,264
5 | 84 | 2,668 | 223,181 | 159,125
1-5 | 418 |  | 1,115,904 | 915,086
Note: (i) estimates may not total due to rounding.

The FAA estimates that during the first five years, the combined cost savings (industry + FAA) will be approximately $4.9 million or $4.0 million present value at a 7 percent discount rate, with annualized savings of $966 thousand. The results are presented in Table 4.

Table 4—Total Cost Savings for the Industry and the FAA
Impact | Cost savings | Present value at 7% | Annualized
Industry | $3,390,280 | $2,768,655 | $675,249
FAA | 1,462,434 | 1,191,854 | 290,682
Total | 4,852,714 | 3,960,509 | 965,931
Note: (i) estimates may not total due to rounding.

3. FAA-Sponsored Pilot Proficiency Programs

This new section would add the FAA-sponsored pilot proficiency programs as a method to establish recent experience under § 61.197(a) and would codify the FAA's current practice of permitting flight instructors to use the WINGS Program to satisfy § 61.197. Codifying FAA-sponsored pilot proficiency programs to allow flight instructors an additional method to renew their certificates is essentially an enabling provision for flight instructors, which was triggered by the need to provide a regulatory basis for a policy that has allowed flight instructors to renew their certificate by means of the WINGS program.

4. Revising Flight Instructor Qualifications Under 14 CFR 61.195(h)(2)

Currently, prior to instructing initial flight instructor applicants, a flight instructor must have held their flight instructor certificate for at least 24 calendar months and have given a requisite number of hours of flight training. This NPRM proposes two additional options for a flight instructor to qualify to instruct initial flight instructor applicants. Under the proposal, flight instructors would have the option to qualify by training and endorsing at least five applicants for a practical test for a pilot certificate or rating, with at least 80 percent of those applicants passing the test on their first attempt. As another option, flight instructors could complete an FAA-approved FIEQTP and give a requisite number of hours of flight training. These two proposed qualification options would allow flight instructors to be eligible to instruct initial flight instructor applicants sooner than 24 calendar months. This provision would provide additional flexibility to instructors and, thus, the FAA assumes it would provide a small cost savings.⁸²

⁸² Section 61.195(h)(2)(iii) currently requires a flight instructor seeking to instruct an initial flight instructor applicant to have held their flight instructor certificate for at least 24 months.

B. Regulatory Flexibility Determination

The Regulatory Flexibility Act (RFA) of 1980, (Pub. L. 96-354, 94 Stat. 1164, 5 U.S.C. 601-612), as amended by the Small Business Regulatory Enforcement Fairness Act of 1996 (Pub. L. 104-121, 110 Stat. 857, Mar. 29, 1996) and the Small Business Jobs Act of 2010 (Pub. L. 111-240, 124 Stat. 2504 Sept. 27, 2010), requires Federal agencies to consider the effects of the regulatory action on small business and other small entities and to minimize any significant economic impact. The term “small entities” comprises small businesses and not-for-profit organizations that are independently owned and operated and are not dominant in their fields, and governmental jurisdictions with populations of less than 50,000. Most of the parties affected by this proposed rule will be small businesses such as flight instructors, aeronautical universities, FAA designated pilot examiners, parts 61 and 141 flight schools, and part 142 training centers. There are over 121,000 ⁸³ flight instructors alone.

⁸³ https://www.faa.gov/data_research/aviation_data_statistics/civil_airmen_statistics/media/2021-civil-airmen-stats.xlsx.

Therefore, this proposed rule will affect a substantial number of small entities. However, it does not impose costs net of cost savings. This proposed rule is expected to provide cost savings of over $3 million present value at 7 percent during the first 5 years.

Therefore, as provided in section 605(b), the head of the FAA certifies that this proposed rule would not result in a significant economic impact on a substantial number of small entities, as it imposes no new costs net of cost savings.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this proposed rule and determined that it would have only a domestic impact and, therefore, no effect on international trade.

D. Unfunded Mandates Assessment

The Unfunded Mandates Reform Act of 1995 (2 U.S.C. 1531-1538) governs the issuance of Federal regulations that require unfunded mandates. An unfunded mandate is a regulation that requires a state, local, or tribal government or the private sector to incur direct costs without the Federal Government having first provided the funds to pay those costs. The FAA determined that the proposed rule will not result in the expenditure of $165,000,000 or more by State, local, or tribal governments, in the aggregate, or the private sector, in any one year.

E. Paperwork Reduction Act

The Paperwork Reduction Act of 1995 (44 U.S.C. 3507(d)) (PRA) requires that the FAA consider the impact of paperwork and other information collection burdens imposed on the public.⁸⁴ The FAA has determined that there will be a new requirement for information collection associated with this proposed rule for the FIEQTP. As required by the PRA, the FAA has submitted this proposed information collection request to OMB for its review. The new information collection would be entitled Flight Instructor Enhanced Qualification Training Program (FIEQTP): Preparation and Approval. The following discussion provides details on this information collection requirement.

⁸⁴ The FAA made changes to FAA Forms 8710-1, Airman Certificate And/or Rating Application, and 8710-11, Airman Certificate and/or Rating Application—Sport Pilot, that currently have collection approval detailed in section III.A.2 of this preamble. The FAA has determined that these changes are de minimis in nature and do not impose any additional burdens such that no revision to the currently approved information collection is needed.

Summary: The proposed rule would amend the qualification requirements for flight instructors seeking to provide flight training to initial flight instructor applicants by adding an option for flight instructors under part 61 to complete an approved FIEQTP that would develop the flight instructor's instructional ability. Participation in this new training program would not be mandatory; instead, it would be one option to become qualified to instruct initial flight instructor applicants. Any part 141 pilot school or part 142 training center wishing to offer the new training program would be required to submit the curriculum to the FAA for approval.

The proposed rule would benefit part 141 pilot schools and part 142 training centers by enabling them to use staff flight instructors ⁸⁵ who successfully complete this course to provide training to initial flight instructor applicants enrolled in their own pilot flight programs.

⁸⁵ Proposed § 61.195(h)(3)(vi) would prescribe specific qualifications for instructors in addition to the requirements provided by each respective part (i.e., part 141 and part 142), as applicable.

Use of: The proposed information collected for the FIEQTP would ensure flight instructors seeking to provide flight training to initial flight instructor applicants are adequately trained in the knowledge and skills of the intricacies of providing flight training to initial flight instructor applicants. The requirement to submit the FIEQTP curriculum to the FAA for approval ensures that the FIEQTP meets the regulatory requirements of such program and provides greater oversight of the training programs to ensure consistency of both course and instructional quality among pilot schools and training centers.

Burden Estimate: At the time of writing, FAA records show 546 active part 141 pilot schools and 50 active part 142 training centers.⁸⁶ The FAA estimates that 25 percent of these pilot schools and training centers would take advantage of the provision in this proposed rule that would trigger an estimated 149 responses to this new information collection for § 61.195(h)(3). Therefore, in the first year, the FAA estimates that about 136.50 pilot schools and 12.50 training centers would submit a training program for approval for a total of about 149 respondents in the first year. Further, the FAA estimates that the development of each FIEQTP would take approximately 80 hours and that the task would be performed by the pilot school's or training center's chief flight instructor. The Bureau of Labor Statistics estimates that the mean annual salary for a chief flight instructor is $92,040, from which the FAA estimates an average wage of $44.25 per hour.⁸⁷ This wage was obtained using the North American Industry Classification System (NAICS) industry code 53-2010 designate for aircraft pilots and flight engineers. This wage estimate was derived by dividing $92,040 by 2,080 hours (assuming a 40-hour work week for 52 weeks), which is $44.25 per hour. Next, a fringe benefit multiplier 1.42 was included. This results in an annual salary of $130,553 and hourly wage of $62.77.⁸⁸ This would result in a first-year burden of about 11,920 hours and about $748,218 ((136.50 pilot schools +12.50 training centers) × 80 hours × $62.77) for affected pilot schools and training centers to prepare and submit new training programs.

⁸⁶ The FAA obtained a list of active part 141 pilot schools and a list of active part 142 training centers from the WebOPSS system on Mar. 9, 2022.

⁸⁷ The code was determined to be the appropriate code as the NAICS code for training and development specialists states “flight instructors are included with “Aircraft Pilots and Flight Engineers” (53-2010)”. Source: https://www.bls.gov/oes/current/oes131151.htm.

⁸⁸ Percent of total compensation = 29.5%. Source: Bureau of Labor Statistics News Release. Employer Costs for Employee Compensation—March 2022. Employer Costs for Employee Compensation Archived News Releases: U.S. Bureau of Labor Statistics (bls.gov).

Table 4—Industry Salary Including Overhead
Job category | Annual wage | Multiplier | Total | Hourly wage
Chief Flight Instructor | ⁽¹⁾ $92,040 | ⁽²⁾ 1.42 | $130,553 | ⁽³⁾ $62.77
Sources:
(1) NAICS Code (53-2010). https://www.bls.gov/oes/current/oes131151.htm.
(2) Overhead benefit percent of total compensation = 29.5%. https://www.bls.gov/bls/news-release/ecec.htm.
(3) Using 2,080 working hours in one year.

For subsequent years, the FAA assumes a growth rate of one percent for both pilot schools and training centers. The FAA estimates that 25 percent of those institutions would submit FIEQTP to the FAA for approval, resulting in approximately 1.49 new respondents and an additional burden of about 119 hours and $7,482 in subsequent years. The FAA also estimates that each year at least 50 percent of the pilot schools and training centers that provide the FIEQTP curriculum would require at least one revision to address any updates or deficiencies identified by the FAA, pilot school, or training center. As a result, the FAA estimates the total annual burden to pilot schools and training centers of submissions, including growth and revisions, at 4,806 hours and $301,652.

The FAA reviewed the number of initial flight instructors certificated in the previous three years, which was reported as: 2021 (6,199), 2020 (6,237), and 2019 (5,945) equaling a total of 18,381 newly certificated flight instructors. Using the most recent year of these newly certificated flight instructors, the FAA estimates 6,199 student records would be generated in the first year. The FAA further assumes that 25 percent of the students would enroll in a FIEQTP regardless of other alternatives. The FAA, therefore, estimates that 1,550 students ⁸⁹ would enroll in a FIEQTP in the first year. The FAA further estimates that the student-population growth rate would be 0.6 percent.⁹⁰ In addition, the FAA estimates each record would require five minutes of processing time and that recordkeeping functions would be the responsibility of the chief flight instructor. This would result in an annual recordkeeping burden of 43 hours and $2,724.

⁸⁹ 6,199 × 25% = 1,550 students.

⁹⁰ Source: FAA Airman Certification Branch.

The annual industry burden and cost of this information requirement for plan submission and revision and student recordkeeping is about 4,849 hours and $304,376.

Table 5—Industry FIEQTP Development and Revision Burden and Costs (Information used for Estimates)
Category | Element | Estimate
Pilot Schools | Number of pilot schools | 546
| Portion of pilot schools affected | 25%
| Number of pilot schools affected | (546 × 0.25 =) 136.50
| Growth rate of pilot schools | 1%
| Number of training centers | 50
Training Centers | Portion of training centers affected | 25%
| Number of training centers affected | (50 × 0.25 =) 12.50
| Growth rate of training centers | 1%
FIEQTP | Time needed to develop and submit original | 80 hours
| Time for revisions | 10 hours
| Percent revisions per year | 50% ⁹¹
Wage Rate | Chief flight instructor | $62.77 ⁹²

The FAA estimates the annual burden and cost to the Federal Government for the review and authorization of the FIEQTP would be 2,842 hours and $231,504. This burden and cost was determined by estimating the time required for FAA personnel to review FIEQTP curriculums and authorize an applicant's program through the issuance of an approval letter. The FAA estimates FAA aviation safety inspectors (ASIs) would spend 40 hours on each review and 10 hours on each revision. Additionally, FAA clerks would spend 30 minutes on issuance of an approval letter. The FAA estimates the salaries for the ASIs and clerks based on the 2022 General Schedule Locality Pay Tables using the Rest of the United States locality pay multiplier. The FAA uses 36.25 percent to calculate the overhead benefits multiplier. The total salary, including overhead, is $172,206 ($82.51 per hour) for ASIs and $84,508 ($40.49 per hour) for clerks. The analysis uses the same number of responses estimated for industry FIEQTP submission and revision to estimate the burden and cost to the FAA of reviews and approvals.

⁹¹ Estimated as 50% of the total affected pilot schools and training centers per year adjusted for growth.

⁹² Data obtained from NAICS code 53-2010 from BLS data website: https://www.bls.gov/oes/current/naics4_611500.htm#25-0000. Accessed April 4, 2022. Hourly wage calculated by dividing the annual mean wage of $92,040 by 2,080 hours.

Table 6—FAA Salaries Including Overhead
Job category | Aviation safety inspector | Clerk
Grade and Step | GS-14 Step 5 | GS-9 Step 5
Annual Base Salary | ⁽¹⁾ $108,769 | ⁽¹⁾ $53,377
Locality Multiplier | ⁽²⁾ 1.162 | ⁽²⁾ 1.162
Salary Adjusted by Locality Pay | $126,390 | $62,024
Overhead Benefit Multiplier | ⁽³⁾ 1.3625 | ⁽³⁾ 1.3625
Salary including Overhead | $172,206 | $84,508
Hourly Wage | ⁽⁴⁾ $82.51 | ⁽⁴⁾ $40.49
Sources:
⁽¹⁾ 2022 General Schedule Pay. https://www.opm.gov/policy-data-oversight/pay-leave/salaries-wages/2022/general-schedule/.
⁽²⁾ FAA locality rate for the Rest of the United States.
⁽³⁾ https://www.whitehouse.gov/wp-content/uploads/legacy_drupal_files/omb/memoranda/2008/m08-13.pdf.
⁽⁴⁾ Using 2,087 working hours in one year.

The combined (industry + FAA) annual burden and cost is 7,691 hours and $536,236. The following provides additional detail of response, burden, and cost estimates to industry and the FAA (some estimates may not exactly total due to rounding).

Table 7—Annual Burden and Costs for the Industry and the FAA
Category | Total responses | Hours per response | Burden hours: Reporting | Burden hours: Recordkeeping | Burden hours: Disclosure | Burden hours: Total | Costs
Industry:
61.195(h)(3)
Development Cost—Pilot Schools | 46.41 | 80 | 3,713 |  |  | 3,713 | $233,075
Development Cost—Training Centers | 4.25 | 80 | 340 |  |  | 340 | 21,344
Cost—Revisions | 75.25 | 10 | 752 |  |  | 752 | 47,233
Industry Recordkeeping Costs | 522.80 | 0.083 |  | 43 |  | 43 | 2,724
Total Industry Costs for 61.195(h)(3) |  |  | 4,806 | 43 | 0 | 4,849 | 304,376
FAA:
61.195(h)(3)
Review cost of FIEQTP curriculums | 50.66 | 40 | 2,027 |  |  | 2,027 | 167,222
Revision cost of FIEQTP curriculums | 75.25 | 10 | 752 |  |  | 752 | 62,089
Cost of issuing approval letter | 125.91 | 0.5 | 63 |  |  | 63 | 2,549
Total FAA Costs for 61.195(h)(3) |  |  | 2,842 | 0 | 0 | 2,842 | 231,861
Total Industry and FAA Costs for 61.195(h)(3) |  |  | 7,648 | 43 | 0 | 7,691 | $536,236
Details may not add to row or column totals due to rounding.

Finally, proposed § 61.195(h)(3)(vii) would require part 141 pilot schools and part 142 training centers to issue a graduation certificate to each flight instructor who successfully completes the FIEQTP. While part 141 already requires pilot schools to issue a graduation certificate to each student who completes an approved course of training,⁹³ this will be a new requirement for part 142 training centers, and only required for training centers in the context of FIEQTPs. The FAA does not know how many part 141 pilot schools or how many part 142 training centers would choose to provide the FIEQTP course. Additionally, the FAA does not know how many flight instructors would seek to attend this course at a part 141 pilot school, which is already required to issue a graduation certificate; or how many flight instructors would seek to attend this course at a part 142 training center, which are not currently required to issue graduation certificates. Therefore, the FAA is unable to quantify the costs to provide a graduation certificate. The FAA requests comments regarding the number of newly certificated flight instructors for part 142 training centers and requests that all comments be accompanied with clear documentation. The FAA may quantify these costs in the final rule.

⁹³ See § 141.95.

Public Comments: The agency is soliciting comments to—

• Evaluate whether the proposed information requirement is necessary for the proper performance of the functions of the agency, including whether the information will have practical utility;

• Evaluate the accuracy of the agency's estimate of the burden;

• Enhance the quality, utility, and clarity of the information to be collected; and

• Minimize the burden of collecting information on those who are to respond, including by using appropriate automated, electronic, mechanical, or other technological collection techniques or other forms of information technology.

Individuals and organizations may send comments on the information collection requirement to the address listed in the ADDRESSES section at the beginning of this preamble by June 22, 2023. Comments also should be submitted to the Office of Management and Budget, Office of Information and Regulatory Affairs, Attention: Desk Officer for FAA, New Executive Office Building, Room 10202, 725 17th Street NW, Washington, DC 20053.

F. International Compatibility

In keeping with U.S. obligations under the Convention on International Civil Aviation, it is FAA policy to conform to International Civil Aviation Organization (ICAO) Standards and Recommended Practices to the maximum extent practicable. The FAA has determined that there are no ICAO Standards and Recommended Practices that correspond to these proposed regulations.

G. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6 for regulations and involves no extraordinary circumstances.

V. Executive Order Determinations

A. Executive Order 13132, Federalism

The FAA has analyzed this proposed rule under the principles and criteria of Executive Order 13132, Federalism. The agency has determined that this action would not have a substantial direct effect on the States, or the relationship between the Federal Government and the States, or on the distribution of power and responsibilities among the various levels of government and, therefore, would not have federalism implications.

B. Executive Order 13175, Consultation and Coordination With Indian Tribal Governments

Consistent with Executive Order 13175, Consultation and Coordination with Indian Tribal Governments,⁹⁴ and FAA Order 1210.20, American Indian and Alaska Native Tribal Consultation Policy and Procedures,⁹⁵ the FAA ensures that Federally Recognized Tribes (Tribes) are given the opportunity to provide meaningful and timely input regarding proposed Federal actions that have the potential to affect uniquely or significantly their respective Tribes. At this point, the FAA has not identified any unique or significant effects, environmental or otherwise, on tribes resulting from this proposed rule.

⁹⁴ 65 FR 67249 (Nov. 6, 2000).

⁹⁵ FAA Order No. 1210.20 (Jan. 28, 2004), available at http://www.faa.gov/documentLibrary/media/1210.pdf.

C. Executive Order 13211, Regulations That Significantly Affect Energy Supply, Distribution, or Use

The FAA analyzed this proposed rule under Executive Order 13211, Actions Concerning Regulations that Significantly Affect Energy Supply, Distribution, or Use. The agency has determined that it would not be a “significant energy action” under the executive order and would not be likely to have a significant adverse effect on the supply, distribution, or use of energy.

D. Executive Order 13609, International Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609 and has determined that this action would have no effect on international regulatory cooperation.

VI. How To Obtain Additional Information

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should submit only one time if comments are filed electronically or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

B. Confidential Business Information

Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to the person in the FOR FURTHER INFORMATION CONTACT section of this document. Any commentary that the FAA receives which is not specifically designated as CBI will be placed in the public docket for this rulemaking.

C. Electronic Access and Filing

A copy of this NPRM, all comments received, any final rule, and all background material may be viewed online at https://www.regulations.gov using the docket number listed above. A copy of this proposed rule will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found at the FAA's Regulations and Policies website at https://www.faa.gov/regulations_policies.

Copies may also be obtained by sending a request to the Federal Aviation Administration, Office of Rulemaking, ARM-1, 800 Independence Avenue SW, Washington, DC 20591, or by calling (202) 267-9677. Interested persons must identify the docket or notice number of this rulemaking.

D. Small Business Regulatory Enforcement Act

The Small Business Regulatory Enforcement Fairness Act (SBREFA) of 1996 requires FAA to comply with small entity requests for information or advice about compliance with statutes and regulations within its jurisdiction. A small entity with questions regarding this document may contact its local FAA official or the person listed under the FOR FURTHER INFORMATION CONTACT heading at the beginning of the preamble. To find out more about SBREFA on the internet, visit www.faa.gov/regulations_policies/rulmaking/sbre_act/.

List of Subjects

14 CFR Part 61

Aircraft, Airmen, Aviation safety, Reporting and recordkeeping requirements, Teachers.

14 CFR Part 63

Aircraft, Airman, Aviation safety, Reporting and recordkeeping requirements.

14 CFR Part 65

Aircraft, Airmen, Aviation safety, Reporting and recordkeeping requirements.

14 CFR Part 141

Airmen, Educational facilities, Reporting and recordkeeping requirements, Schools.

The Proposed Amendment

In consideration of the foregoing, the Federal Aviation Administration proposes to amend chapter I of title 14, Code of Federal Regulations as follows:

PART 61—CERTIFICATION: PILOTS, FLIGHT INSTRUCTORS, AND GROUND INSTRUCTORS

1. The authority citation for part 61 is revised to read as follows:

Authority: 49 U.S.C. 106(f), 106(g), 40113, 44701-44703, 44707, 44709-44711, 44729, 44903, 45102-45103, 45301-45302; Sec. 2307 Pub. L. 114-190, 130 Stat. 615 (49 U.S.C. 44703 note); Sec. 318 Pub. L. 115-254.

Special Federal Aviation Regulation No. 100-2 [Removed]

2. Remove Special Federal Aviation Regulation No. 100-2 from part 61.

3. Amend § 61.2 by revising paragraphs (b)(1) and (2) to read as follows:

§ 61.2 Exercise of Privilege.

* * * * *

(b) * * *

(1) Exercise privileges of an airman certificate, rating, endorsement, or authorization issued under this part unless that person meets the appropriate airman recent experience and medical requirements of this part, specific to the operation or activity.

(2) Exercise privileges of a foreign pilot license within the United States to conduct an operation described in § 61.3(b), unless that person meets the appropriate airman recent experience and medical requirements of the country that issued the license, specific to the operation.

4. Amend § 61.19 by revising paragraphs (a)(2), (c)(1), (d), and (e) to read as follows:

§ 61.19 Duration of pilot and instructor certificates and privileges.

(a) * * *

(2) Except for a certificate issued with an expiration date, a certificate issued under this part is valid unless it is surrendered, suspended, or revoked.

* * * * *

(c) * * *

(1) A pilot certificate (including a student pilot certificate issued after April 1, 2016) issued under this part is issued without an expiration date.

* * * * *

(d) Flight instructor certificate. (1) A flight instructor certificate issued under this part on or after [EFFECTIVE DATE OF FINAL RULE] is issued without an expiration date.

(2) A flight instructor certificate issued before [EFFECTIVE DATE OF FINAL RULE] expires 24 calendar months from the month in which it was issued, renewed, or reinstated, as appropriate.

(e) Ground instructor certificate. A ground instructor certificate is issued without an expiration date.

* * * * *

5. Amend § 61.39 by:

a. Revising the introductory text of paragraph (a), the introductory text of paragraph (b), paragraph (b)(3), the introductory text of paragraph (c), and paragraph (c)(2);

b. Redesignating paragraphs (e) through (g) as paragraphs (f) through (h); and

c. Adding new paragraph (e).

The revisions and addition read as follows:

§ 61.39 Prerequisites for practical tests.

(a) Except as provided in paragraphs (b), (c), (e), and (f) of this section, to be eligible for a practical test for a certificate or rating issued under this part, an applicant must:

* * * * *

(b) Except as provided in paragraph (e) of this section, an applicant for an airline transport pilot certificate with an airplane category multiengine class rating or an airline transport pilot certificate obtained concurrently with a multiengine airplane type rating may take the practical test with an expired knowledge test only if the applicant passed the knowledge test after July 31, 2014, and is employed:

* * * * *

(3) By the U.S. Armed Forces as a flight crewmember in U.S. military air transport operations at the time of the practical test and has satisfactorily completed the pilot in command aircraft qualification training program that is appropriate to the pilot certificate and rating sought.

(c) Except as provided in paragraph (e) of this section, an applicant for an airline transport pilot certificate with a rating other than those ratings set forth in paragraph (b) of this section may take the practical test for that certificate or rating with an expired knowledge test report, provided that the applicant is employed:

* * * * *

(2) By the U.S. Armed Forces as a flight crewmember in U.S. military air transport operations at the time of the practical test and has satisfactorily completed the pilot in command aircraft qualification training program that is appropriate to the pilot certificate and rating sought.

* * * * *

(e) An applicant for an airman certificate or rating issued under part 61 may take a practical test with an expired knowledge test if the applicant meets the requirements specified in § 61.40.

* * * * *

6. Add § 61.40 to read as follows:

§ 61.40 Relief for U.S. military and civilian personnel who are assigned outside the United States in support of U.S. Armed Forces operations.

(a) Relief. A person who satisfies the requirements of paragraph (b) of this section may use the following documents to demonstrate eligibility to renew a flight instructor certificate, establish recent flight instructor experience, take a practical test, or renew an inspection authorization, as appropriate:

(1) For flight instructor certificates issued before [THE EFFECTIVE DATE OF FINAL RULE], an expired flight instructor certificate to show eligibility for renewal of a flight instructor certificate under § 61.197;

(2) Except as provided in paragraph (a)(3) of this section, for flight instructor certificates issued after [THE EFFECTIVE DATE OF FINAL RULE], a record demonstrating the last recent experience event accomplished under § 61.197 to show eligibility to reestablish recent experience under § 61.197;

(3) For persons who were issued a flight instructor certificate after [THE EFFECTIVE DATE OF FINAL RULE] and who served in a U.S. military or civilian capacity outside the United States in support of a U.S. Armed Forces operation for some period of time during the 24 calendar months following the issuance of the person's flight instructor certificate, a flight instructor certificate demonstrating the date of issuance to show eligibility to establish recent experience under § 61.197;

(4) An expired written test report to show eligibility under this part to take a practical test;

(5) An expired written test report to show eligibility to take a practical test required under part 63 of this chapter; and

(6) An expired written test report to show eligibility to take a practical test required under part 65 of this chapter or an expired inspection authorization to show eligibility for renewal under § 65.93 of this chapter.

(b) Eligibility. A person is eligible for the relief specified in paragraph (a) of this section if that person meets the following requirements:

(1) The person must have served in a U.S. military or civilian capacity outside the United States in support of a U.S. Armed Forces operation during some period of time beginning on or after September 11, 2001;

(2) One of the following occurred sometime between September 11, 2001, and 6 calendar months after returning to the United States—

(i) The person's flight instructor certificate issued before [THE EFFECTIVE DATE OF FINAL RULE], airman written test report, or inspection authorization expired; or

(ii) For flight instructor certificates issued after [THE EFFECTIVE DATE OF FINAL RULE], the person has not met the flight instructor recent experience requirements within the preceding 24 calendar months in accordance with § 61.197; and

(3) The person complies with § 61.197 or § 65.93 of this chapter, as appropriate, or completes the appropriate practical test within 6 calendar months after returning to the United States.

(c) Required documents. To exercise the relief specified in paragraph (a) of this section, a person must complete and sign an application appropriate to the relief sought and submit the application to the appropriate Flight Standards office. The person must include with the application one of the following documents, which must show the date of assignment outside the United States and the date of return to the United States:

(1) An official U.S. Government notification of personnel action, or equivalent document, showing the person was a civilian on official duty for the U.S. Government outside the United States and was assigned to a U.S. Armed Forces operation some time on or after September 11, 2001;

(2) Military orders validating the person was assigned to duty outside the United States and was assigned to a U.S. Armed Forces operation some time on or after September 11, 2001; or

(3) A letter from the person's military commander or civilian supervisor providing the dates during which the person served outside the United States and was assigned to a U.S. Armed Forces operation some time on or after September 11, 2001.

7. Amend § 61.56 by revising paragraphs (d)(2), (e), and (f) to read as follows:

§ 61.56 Flight review.

* * * * *

(d) * * *

(2) A practical test conducted by an examiner for one of the following:

(i) The issuance of a flight instructor certificate;

(ii) An additional rating on a flight instructor certificate;

(iii) To meet the recent experience requirements for a flight instructor certificate in accordance with § 61.197(b)(1); or

(iv) The reinstatement of flight instructor privileges in accordance with § 61.199(b)(2).

(e) A person who has, within the period specified in paragraph (c) of this section, satisfactorily accomplished one or more phases of an FAA-sponsored pilot proficiency program need not accomplish the flight review required by this section.

(f) A person who holds a flight instructor certificate need not accomplish the one hour of ground training specified in paragraph (a) of this section if that person has, within the period specified in paragraph (c) of this section, met one of the following requirements—

(1) Satisfactorily completed the recent experience requirements for a flight instructor certificate under § 61.197; or

(2) Reinstated the person's flight instructor privileges by satisfactorily completing an approved flight instructor refresher course in accordance with § 61.199(a)(1).

* * * * *

8. Amend § 61.195 by revising paragraph (h) to read as follows:

§ 61.195 Flight instructor limitations and qualifications.

* * * * *

(h) Qualifications to provide ground or flight training to initial flight instructor applicants—(1) Ground training. The ground training provided to an initial applicant for a flight instructor certificate must be given by an authorized instructor who—

(i) Holds a ground or flight instructor certificate with the appropriate rating, has held that certificate for at least 24 calendar months, and has given at least 40 hours of ground training; or

(ii) Holds a ground or flight instructor certificate with the appropriate rating and has given at least 100 hours of ground training in an FAA-approved course.

(2) Flight training. A flight instructor who provides flight training to an initial applicant for a flight instructor certificate must meet the eligibility requirements prescribed in § 61.183; hold the appropriate flight instructor certificate and rating; meet the requirements of the part under which the flight training is provided; and meet one of the following requirements—

(i) Have held a flight instructor certificate for at least 24 calendar months; and

(A) For training in preparation for an airplane, rotorcraft, or powered-lift rating, have given at least 200 hours of flight training as a flight instructor; or

(B) For training in preparation for a glider rating, have given at least 80 hours of flight training as a flight instructor;

(ii) Have trained and endorsed, during the preceding 24 calendar months, at least five applicants for a practical test for a pilot certificate or rating, and at least 80 percent of all applicants endorsed in that period passed that test on their first attempt; or

(iii) After completing the flight training requirements in paragraphs (h)(2)(i)(A) or (B) of this section, as appropriate, have graduated from an FAA-approved flight instructor enhanced qualification training program that satisfies the requirements specified in paragraph (h)(3) of this section.

(3) Flight instructor enhanced qualification training program. A flight instructor enhanced qualification training program must be approved and conducted under part 141 or 142 of this chapter and meet the following requirements—

(i) The ground training must include at least 25 hours of instruction that includes the following subjects:

(A) Flight instructor responsibilities, functions, lesson planning, and risk management, including how to instruct an initial flight instructor applicant on these subjects.

(B) Teaching methods, procedures, and techniques applicable to instructing an initial flight instructor applicant.

(C) Methods of proper evaluation of an initial flight instructor applicant to detect improper and insufficient transfer of instructional knowledge, training, and performance of the initial flight instructor applicant.

(D) Corrective action in the case of unsatisfactory training progress.

(ii) The flight training must include at least 10 hours of training that includes the following areas:

(A) Scenario-based training to develop the flight instructor's ability to instruct an initial flight instructor applicant how to satisfactorily perform the procedures and maneuvers while giving effective flight training.

(B) Instructional knowledge and proficiency to teach an initial flight instructor applicant in abnormal and emergency procedures, which must include stall awareness, spin entry, spins, and spin recovery procedures, if applicable to the category and class of aircraft used in the flight instructor enhanced qualification training program.

(C) Risk management and potential results of improper, untimely, or non-execution of safety measures critical to flight training.

(D) Methods of proper evaluation of an initial flight instructor applicant to detect improper and insufficient transfer of instructional knowledge, training, and performance of the initial flight instructor applicant.

(E) Corrective action in the case of unsatisfactory training progress.

(F) Methods to detect personal characteristics of an initial flight instructor applicant that could adversely affect safety.

(iii) Each flight instructor enrolled in the flight instructor enhanced qualification training program must satisfactorily complete an end-of-course written test specific to the ground training subjects in paragraph (h)(3)(i) of this section and an end-of-course instructional proficiency flight test specific to the flight training areas in paragraph (h)(3)(ii) of this section.

(iv) A full flight simulator or flight training device may be used to meet the flight training requirements of paragraph (h)(3)(ii) of this section. The FFS or FTD must be—

(A) Qualified and maintained in accordance with part 60 of this chapter or a previously qualified device as permitted in accordance with § 60.17 of this chapter;

(B) Approved by the Administrator pursuant to § 61.4(a); and

(C) Used in accordance with the part under which the FAA-approved course is conducted.

(v) A maximum of 5 hours of training received in an advanced aviation training device may be used to meet the flight training requirements of paragraph (h)(3)(ii) of this section for programs conducted under part 141 of this chapter. The advanced aviation training device must be—

(A) Approved by the Administrator pursuant to § 61.4(c); and

(B) Used in accordance with part 141 of this chapter.

(vi) No certificate holder may use a person nor may any person serve as an instructor of the flight instructor enhanced qualification training program unless the instructor holds a flight instructor certificate or ground instructor certificate and meets one of the following qualifications:

(A) Serves as a chief instructor or assistant chief instructor in a part 141 pilot school;

(B) Serves as a training center program manager or assistant training center program manager of a part 142 training center; or

(C) Meets the qualifications of an assistant chief instructor, pursuant to § 141.36(d).

(vii) A part 141 pilot school or part 142 training center must issue a graduation certificate to each flight instructor who successfully completes the flight instructor enhanced qualification training program.

* * * * *

9. Revise § 61.197 to read as follows:

§ 61.197 Recent experience requirements for flight instructor certification.

(a) A person may exercise the privileges of the person's flight instructor certificate only if, within the preceding 24 calendar months, that person has satisfied one of the recent experience requirements specified in paragraph (b) of this section. The 24 calendar month period during which the flight instructor must establish recent experience shall start from one of the following—

(1) The month the FAA issued the flight instructor certificate;

(2) The month the recent experience requirements of paragraph (b) of this section are accomplished; or

(3) The last month of the flight instructor's current recent experience period provided the recent experience requirements of paragraph (b) of this section are accomplished within the 3 calendar months preceding the last month of the certificate holder's current recent experience period.

(b) A person who holds a flight instructor certificate may establish recent experience by satisfying one of the following requirements—

(1) Passing a practical test for—

(i) One of the ratings listed on the flight instructor certificate; or

(ii) An additional flight instructor rating; or

(2) Satisfactorily completing one of the following recent experience requirements, and submitting documentation of such in a form and manner acceptable to the Administrator—

(i) During the preceding 24 calendar months, the flight instructor has endorsed at least 5 applicants for a practical test for a certificate or rating and at least 80 percent of those applicants passed that test on the first attempt.

(ii) Within the preceding 24 calendar months, the flight instructor has served as a company check pilot, chief flight instructor, company check airman, or flight instructor in a part 121 or part 135 operation, or in a position involving the regular evaluation of pilots.

(iii) Within the preceding 3 calendar months, the person has successfully completed an approved flight instructor refresher course consisting of ground training or flight training, or a combination of both.

(iv) Within the preceding 24 calendar months from the month of application, the flight instructor passed an official U.S. Armed Forces military instructor pilot or pilot examiner proficiency check in an aircraft for which the military instructor already holds a rating or in an aircraft for an additional rating.

(v) Within the preceding 24 calendar months from the month of application, the flight instructor has served as a flight instructor in an FAA-sponsored pilot proficiency program, provided the flight instructor meets the following requirements—

(A) Holds a flight instructor certificate and meets the appropriate flight instructor recent experience requirements of this part;

(B) Has satisfactorily completed at least one phase of an FAA-sponsored pilot proficiency program in the preceding 12 calendar months; and

(C) Has given at least 15 hours of flight training under the FAA-sponsored pilot proficiency program to at least 5 pilots and has made appropriate endorsements in the logbooks of those pilots.

(c) Except as provided in paragraph (f) of this section, a person who fails to establish recent experience in accordance with paragraph (b) of this section during the 24 calendar month period specified in paragraph (a) of this section may not exercise flight instructor privileges until those privileges are reinstated in accordance with § 61.199.

(d) The practical test required by paragraph (b)(1) of this section may be accomplished in a full flight simulator or flight training device if the test is accomplished pursuant to an approved course conducted by a training center certificated under part 142 of this chapter.

(e) A person who holds an unexpired flight instructor certificate issued before [THE EFFECTIVE DATE OF FINAL RULE] may renew that certificate by establishing recent experience in accordance with paragraph (b) of this section prior to the month of expiration on that person's flight instructor certificate. Except as provided in § 61.40, if that person fails to establish recent experience prior to the expiration of that person's flight instructor certificate, that person may not exercise flight instructor privileges until those privileges are reinstated in accordance with § 61.199.

(f) A person who qualifies for the relief prescribed in § 61.40 may establish recent experience in accordance with paragraph (b) of this section, provided the requirements of § 61.40 are met.

10. Amend § 61.199 by revising the section heading and paragraph (a), and removing paragraphs (c) and (d).

§ 61.199 Reinstatement of flight instructor privileges.

(a) Flight instructor privileges. The holder of a flight instructor certificate who has not complied with the flight instructor recent experience requirements of § 61.197 may reinstate the person's flight instructor privileges by filing a completed and signed application with the FAA and satisfactorily completing one of the following reinstatement requirements:

(1) If 3 calendar months or less have passed since the last month of the flight instructor's recent experience period, the flight instructor may successfully complete an approved flight instructor refresher course consisting of ground training or flight training, or a combination of both, or satisfy one of the requirements specified in paragraph (a)(2) of this section.

(2) If more than 3 calendar months have passed since the last month of the flight instructor's recent experience period, the flight instructor must satisfactorily complete one of the following:

(i) A flight instructor certification practical test, as prescribed by § 61.183(h), for one of the ratings held on the flight instructor certificate; or

(ii) A flight instructor certification practical test for an additional rating.

(3) For military instructor pilots and pilot examiners, provide a record showing that, within the preceding 6 calendar months from the date of application for reinstatement, the person—

(i) Passed a U.S. Armed Forces instructor pilot or pilot examiner proficiency check; or

(ii) Completed a U.S. Armed Forces instructor pilot or pilot examiner training course and received an additional aircraft qualification as a military instructor pilot or pilot examiner that is appropriate to the flight instructor rating sought.

* * * * *

11. Revise § 61.215 by adding paragraph (e) to read as follows:

§ 61.215 Ground instructor privileges.

* * * * *

(e) Ground training provided to an initial applicant for a flight instructor certificate may only be provided by an authorized instructor in accordance with § 61.195(h)(1).

12. Revise § 61.425 to read as follows:

§ 61.425 How do I establish recent experience for my flight instructor certificate with a sport pilot rating?

(a) If you hold a flight instructor certificate with a sport pilot rating issued after [THE EFFECTIVE DATE OF FINAL RULE], you must establish recent experience in accordance with § 61.197.

(b) If you hold an unexpired flight instructor certificate with a sport pilot rating issued before [THE EFFECTIVE DATE OF FINAL RULE], you must renew your certificate by establishing recent experience in accordance with § 61.197 prior to the month of expiration on your flight instructor certificate. If you fail to establish recent experience prior to the expiration of your flight instructor certificate, you may not exercise flight instructor privileges until you reinstate those privileges in accordance with § 61.427.

13. Revise § 61.427 to read as follows:

§ 61.427 How do I reinstate my flight instructor privileges if I fail to establish recent experience for my flight instructor with a sport pilot rating certificate?

If you fail to establish recent experience for your flight instructor certificate with a sport pilot rating, you must reinstate your flight instructor privileges by satisfactorily completing one of the following reinstatement requirements:

(a) If 3 calendar months or less have passed since the last month of your recent experience period, you must successfully complete an approved flight instructor refresher course consisting of ground training or flight training, or a combination of both, or satisfy the requirements specified in paragraph (b) of this section.

(b) If more than 3 calendar months have passed since the last month of the flight instructor's recent experience period, you must pass a practical test as prescribed in § 61.405(b) or § 61.183(h) for one of the ratings listed on your flight instructor certificate with a sport pilot rating. The FAA will reinstate any privilege authorized by that flight instructor certificate with a sport pilot rating.

PART 63—CERTIFICATION: FLIGHT CREWMEMBERS OTHER THAN PILOTS

14. The authority citation for part 63 continues to read as follows:

Authority: 49 U.S.C. 106(f), 106(g), 40113, 44701-44703, 44707, 44709-44711, 45102-45103, 45301-45302.

15. Amend § 63.35 by revising paragraphs (c), (d)(1)(iii) and (d)(2), and adding paragraph (d)(3) to read as follows:

§ 63.35 Knowledge requirements

* * * * *

(c) Before taking the written tests prescribed in paragraphs (a) and (b) of this section, an applicant for a flight engineer certificate must present satisfactory evidence of having completed one of the experience requirements of § 63.37. However, the applicant may take the written tests before acquiring the flight training required by § 63.37

(d) * * *

(1) * * *

(iii) Meets the recurrent training requirements of the applicable part or, for mechanics, meets the recency of experience requirements of part 65 of this chapter;

(2) Within the period ending 24 calendar months after the month in which the applicant passed the written test, the applicant participated in a flight engineer or maintenance training program of a U.S. scheduled military air transportation service and is currently participating in that program; or

(3) An applicant is eligible to take a practical test for a flight engineer certificate or rating under this part with an expired written test report in accordance with § 61.40 of this chapter.

* * * * *

16. Amend § 63.53 by revising paragraph (b), and adding paragraph (c) to read as follows:

§ 63.53 Knowledge Requirements

* * * * *

(b) A report of the test is mailed to the applicant. Except as provided in paragraph (c) of this section, a passing grade is evidence, for a period of 24 calendar months after the test, that the applicant has complied with this section.

(c) An applicant is eligible to take a practical test for a flight navigator certificate under this part with an expired written test report in accordance with § 61.40 of this chapter.

PART 65—CERTIFICATION: AIRMEN OTHER THAN FLIGHT CREWMEMBERS

17. The authority citation for part 65 continues to read as follows:

Authority: 49 U.S.C. 106(f), 106(g). 40113, 44701-44703, 44707, 44709-44711, 45102-45103, 45301-45302.

18. Amend § 65.55 by revising paragraph (b), and adding paragraph (c) to read as follows:

§ 65.55 Knowledge requirements.

* * * * *

(b) Except as provided in paragraph (c) of this section, the applicant must present documentary evidence satisfactory to the Administrator of having passed an aircraft dispatcher knowledge test within the preceding 24 calendar months.

(c) An applicant is eligible to take a practical test for an aircraft dispatcher certificate under this part with an expired written test report in accordance with § 61.40 of this chapter.

19. Amend § 65.71 by revising paragraphs (a)(4) and (b) to read as follows:

§ 65.71 Eligibility requirements: General.

(a) * * *

(4) Comply with the sections of this subpart that apply to the rating the applicant seeks.

(b) A certificated mechanic who applies for an additional rating must meet the requirements of § 65.77 and, within a period of 24 calendar months, pass the tests prescribed by §§ 65.75 and 65.79 for the additional rating sought, except as provided in § 65.75(d).

20. Amend § 65.75 by adding paragraph (d) to read as follows:

§ 65.75 Knowledge requirements.

* * * * *

(d) An applicant is eligible to take a practical test for a mechanic certificate or rating under this part with an expired written test report in accordance with § 61.40 of this chapter.

21. Amend § 65.93 by revising the introductory text of paragraph (a), and adding paragraph (d) to read as follows:

§ 65.93 Inspection authorization: Renewal.

(a) Except as provided in paragraph (d) of this section, to be eligible for renewal of an inspection authorization for a 2-year period an applicant must present evidence during the month of March of each odd-numbered year, at the responsible Flight Standards office, that the applicant still meets the requirements of § 65.91(c)(1) through (4). In addition, during the time the applicant held the inspection authorization, the applicant must show completion of one of the activities in paragraphs (a)(1) through (5) of this section by March 31 of the first year of the 2-year inspection authorization period, and completion of one of the five activities during the second year of the 2-year period:

* * * * *

(d) A person who qualifies for the relief prescribed in § 61.40 of this chapter is eligible to renew an expired inspection authorization under this section, provided the requirements of § 61.40 of this chapter are met.

PART 141—PILOT SCHOOLS

23. The authority citation for part 141 continues to read as follows:

Authority: 49 U.S.C. 106(f), 106(g). 40113, 44701-44703, 44707, 44709, 44711, 45102-45103, 45301-45302.

24. Amend § 141.11 by adding paragraph (b)(2)(ix) and paragraph (b)(4) to read as follows:

§ 141.11 Pilot school ratings.

* * * * *

(b) * * *

(2) * * *

(ix) Flight instructor enhanced qualification training program.

* * * * *

(4) Combined Private Pilot Certification and Instrument Rating Course (Appendix M).

25. Amend appendix K to part 141 by:

a. Revising the paragraph heading of paragraph 4.;

b. Revising paragraphs 4.(a) through (c); and

c. Adding paragraph 14.

The revisions and addition read as follows:

Appendix K to Part 141—Special Preparation Courses

* * * * *

4. Use of full flight simulators, flight training devices, or aviation training devices.

(a) The approved special preparation course may include training in a full flight simulator or flight training device, provided it is representative of the aircraft for which the course is approved, meets requirements of this paragraph, and the training is given by an authorized instructor. A flight instructor enhanced qualification training program may include training in an advanced aviation training device in accordance with paragraph 14 of this appendix and § 61.195(h)(3)(v) of this chapter.

(b) Except for the airline transport pilot certification program in paragraph 13 of this appendix and the flight instructor enhanced qualification training program in paragraph 14 of this appendix, training in a full flight simulator that meets the requirements of § 141.41(a), may be credited for a maximum of 10 percent of the total flight training hour requirements of the approved course, or of this section, whichever is less.

(c) Except for the airline transport pilot certification program in pragraph 13 of this appendix and the flight instructor enhanced qualification training program in paragraph 14 of this appendix, training in a flight training device that meets the requirements of § 141.41(a), may be credited for a maximum of 5 percent of the total flight training hour requirements of the approved course, or of this section, whichever is less.

* * * * *

14. Flight instructor enhanced qualification training program. An approved flight instructor enhanced qualification training program must include the ground and flight training specified in § 61.195(h)(3) of this chapter. The FAA will not approve a course with fewer hours than those prescribed in § 61.195(h)(3) of this chapter.

Issued under authority provided by 49 U.S.C. 106(f), 44701(a)(5), and 44703(a) in Washington, DC.
Wesley L. Mooty,
Acting Deputy Executive Director, Flight Standards Service.

[FR Doc. 2023-10182 Filed 5-22-23; 8:45 am]

BILLING CODE 4910-13-P